DEPARTMENT OF HOUSING AND URBAN DEVELOPMENT

[Docket No. FR-5045-N-09]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Commandant, U.S. Coast Guard, Attn: Teresa Sheinberg, 2100 Second St., SW., Rm. 6109, Washington, DC 20593-0001; (202) 267-6142; COE: Ms. Shirley Middleswarth, Army Corps of Engineers, Civil Division, 441 G Street, NW., Washington, DC 20314-1000; (202) 761-1295; Energy: Mr. John Watson, Department of Energy, Office of Engineering & Construction Management, ME-90, 1000 Independence Ave., SW., Washington, DC 20585: (202) 586-0072; GSA: Mr. John Kelly, Acting Deputy Assistant Commissioner, General Services Administration, Office of Property Disposal, 18th & F Streets, NW., Washington, DC 20405; (202) 501-0084; VA: Ms. Amelia E. McLellan, Director, Real Property Service, Department of Veterans Affairs, 810 Vermont Avenue, NW., Rm. 419, Washington, DC 20420; (202) 565-5398; (These are not toll-free numbers).

Dated: February 23, 2006.
Mark R. Johnston,
Acting Deputy Assistant Secretary for Special Needs.

Title V, Federal Surplus Property Program Federal Register Report for March 3, 2006

Suitable/Available Properties

Buildings (by State)

California

Indian Creek Tullis Property

Hwy 299

Douglas City Co: Trinity CA 96024-0162

Landholding Agency: GSA

Property Number: 54200540017

Status: Surplus

Comment: 919 sq. ft., residential bldg. and two garage/storage bldgs., off-site use only

GSA Number: 9-I-CA-1652

Social Security Building

505 North Court Street

Visalia Co: Tulare CA 93291-

Landholding Agency: GSA

Property Number: 54200610010

Status: Surplus

Comment: 11,727 sq. ft., possible lead paint, most recent use—office

GSA Number: 9-G-CA-1643

Colorado

Bldg. 2

VAMC

2121 North Avenue

Grand Junction Co: Mesa CO 81501-

Landholding Agency: VA

Property Number: 97200430001

Status: Unutilized

Comment: 3298 sq. ft., needs major rehab, presence of asbestos/lead paint

Bldg. 3

VAMC

2121 North Avenue

Grand Junction Co: Mesa CO 81501-

Landholding Agency: VA

Property Number: 97200430002

Status: Unutilized

Comment: 7275 sq. ft., needs major rehab, presence of asbestos/lead paint

Georgia

Bldg. W0-3

West Point Lake

West Point Co: GA 31833-

Landholding Agency: COE

Property Number: 31200520001

Status: Unutilized

Comment: 7 x 7 gatehouse, off-site use only

Idaho

Bldg. CF603

Idaho Natl Eng & Env Lab

Scoville Co: Butte ID 83415-

Landholding Agency: Energy

Property Number: 41200020004

Status: Excess

Comment: 15,005 sq ft. cinder block, presence of asbestos/lead paint, major rehab, off-site use only

Illinois

SSA Federal Building

1530 4th Street

Peru Co: IL 61354-

Landholding Agency: GSA

Property Number: 54200540012

Status: Excess

Comment: 6007 sq. ft., most recent use—office/storage

GSA Number: 1-G-IL-732

Indiana

Bldg. 105, VAMC

East 38th Street

Marion Co: Grant IN 46952-

Landholding Agency: VA

Property Number: 97199230006

Status: Excess

Comment: 310 sq. ft., 1 story stone structure, no sanitary or heating facilities, Natl Register of Historic Places

Bldg. 140, VAMC

East 38th Street

Marion Co: Grant IN 46952-

Landholding Agency: VA

Property Number: 97199230007

Status: Excess

Comment: 60 sq. ft., concrete block bldg., most recent use—trash house

Bldg. 7

VA Northern Indiana Health Care System

Marion Campus, 1700 East 38th Street

Marion Co: Grant IN 46953-

Landholding Agency: VA

Property Number: 97199810001

Status: Underutilized

Comment: 16,864 sq. ft., presence of asbestos, most recent use—psychiatric ward, National Register of Historic Places

Bldg. 10

VA Northern Indiana Health Care System

Marion Campus, 1700 East 38th Street

Marion Co: Grant IN 46953-

Landholding Agency: VA

Property Number: 97199810002

Status: Underutilized

Comment: 16,361 sq. ft., presence of asbestos, most recent use—psychiatric ward, National Register of Historic Places

Bldg. 11

VA Northern Indiana Health Care System

Marion Campus, 1700 East 38th Street

Marion Co: Grant IN 46953-

Landholding Agency: VA

Property Number: 97199810003

Status: Underutilized

Comment: 16,361 sq. ft., presence of asbestos, most recent use—psychiatric ward, National Register of Historic Places

Bldg. 18

VA Northern Indiana Health Care System

Marion Campus, 1700 East 38th Street

Marion Co: Grant IN 46953-

Landholding Agency: VA

Property Number: 97199810004

Status: Underutilized

Comment: 13,802 sq. ft., presence of asbestos, most recent use—psychiatric ward, National Register of Historic Places

Bldg. 25

VA Northern Indiana Health Care System

Marion Campus, 1700 East 38th Street

Marion Co: Grant IN 46953-

Landholding Agency: VA

Property Number: 97199810005

Status: Unutilized

Comment: 32,892 sq. ft., presence of asbestos, most recent use—psychiatric ward, National Register of Historic Places

Bldg. 1

N. Indiana Health Care System

Marion Co: Grant IN 46952-

Landholding Agency: VA

Property Number: 97200310001

Status: Unutilized

Comment: 20,287 sq. ft., needs extensive repairs, presence of asbestos, most recent use—patient ward

Bldg. 3

N. Indiana Health Care System

Marion Co: Grant IN 46952-

Landholding Agency: VA

Property Number: 97200310002

Status: Unutilized

Comment: 20,550 sq. ft., needs extensive repairs, presence of asbestos, most recent use—patient ward

Bldg. 4

N. Indiana Health Care System

Marion Co: Grant IN 46952-

Landholding Agency: VA

Property Number: 97200310003

Status: Unutilized

Comment: 20,550 sq. ft., needs extensive repairs, presence of asbestos, most recent use—patient ward

Bldg. 13

N. Indiana Health Care System

Marion Co: Grant IN 46952-

Landholding Agency: VA

Property Number: 97200310004

Status: Unutilized

Comment: 8971 sq. ft., needs extensive repairs, presence of asbestos, most recent use—office

Bldg. 19

N. Indiana Health Care System

Marion Co: Grant IN 46952-

Landholding Agency: VA

Property Number: 97200310005

Status: Unutilized

Comment: 12,237 sq. ft., needs extensive repairs, presence of asbestos, most recent use—office

Bldg. 20

N. Indiana Health Care System

Marion Co: Grant IN 46952-

Landholding Agency: VA

Property Number: 97200310006

Status: Unutilized

Comment: 14,039 sq. ft., needs extensive repairs, presence of asbestos, most recent use—office/storage

Bldg. 42

N. Indiana Health Care System

Marion Co: Grant IN 46952-

Landholding Agency: VA

Property Number: 97200310007

Status: Unutilized

Comment: 5025 sq. ft., needs extensive repairs, presence of asbestos, most recent use—office

Bldg. 60

N. Indiana Health Care System

Marion Co: Grant IN 46952-

Landholding Agency: VA

Property Number: 97200310008

Status: Unutilized

Comment: 18,126 sq. ft., needs extensive repairs, presence of asbestos, most recent use—office

Bldg. 122

N. Indiana Health Care System

Marion Co: Grant IN 46952-

Landholding Agency: VA

Property Number: 97200310009

Status: Unutilized

Comment: 37,135 sq. ft., needs extensive repairs, presence of asbestos, most recent use—dining hall/kitchen

Kentucky

Green River Lock & Dam #3

Rochester Co: Butler KY 42273-

Location: SR 70 west from Morgantown, KY., approximately 7 miles to site.

Landholding Agency: COE

Property Number: 31199010022

Status: Unutilized

Comment: 980 sq. ft.; 2 story wood frame; two story residence; potential utilities; needs major rehab.

Massachusetts

8 Bldgs.

Otis Air Force Base

Sandwich Co: Barnstable MA 02563-

Location: 5452, 5453, 5455, 5457, 5459, 5461, 5463, 5465

Landholding Agency: GSA

Property Number: 54200610007

Status: Excess

Comment: wood/concrete housing, presence of asbestos/lead paint, off-site use only

GSA Number: 00000

Minnesota

Lakes Project Office

307 Main Street East

Remer Co: Cass MN

Landholding Agency: GSA

Property Number: 54200410015

Status: Surplus

Comment: Office bldg/oil shed/maintenance garage, minor water damage

GSA Number: 5-D-MN-548-A

Montana

Bldg. 1

Butte Natl Guard

Butte Co: Silverbow MT 59701-

Landholding Agency: COE

Property Number: 31200040010

Status: Unutilized

Comment: 22799 sq. ft., presence of asbestos, most recent use—cold storage, off-site use only

Bldg. 2

Butte Natl Guard

Butte Co: Silverbow MT 59701-

Landholding Agency: COE

Property Number: 31200040011

Status: Unutilized

Comment: 3292 sq. ft., most recent use—cold storage, off-site use only

Bldg. 3

Butte Natl Guard

Butte Co: Silverbow MT 59701-

Landholding Agency: COE

Property Number: 31200040012

Status: Unutilized

Comment: 964 sq. ft., most recent use—cold storage, off-site use only

Bldg. 4

Butte Natl Guard

Butte Co: Silverbow MT 59701-

Landholding Agency: COE

Property Number: 31200040013

Status: Unutilized

Comment: 72 sq. ft., most recent use—cold storage, off-site use only

Bldg. 5

Butte Natl Guard

Butte Co: Silverbow MT 59701-

Landholding Agency: COE

Property Number: 31200040014

Status: Unutilized

Comment: 1286 sq. ft., most recent use—cold storage, off-site use only

New Mexico

Federal Building 517 Gold Avenue, SW

Albuquerque Co: Bernalillo NM 87102-

Landholding Agency: GSA

Property Number: 54200540005

Status: Excess

Comment: 273,027 sq. ft., 8 floors + basement, top two floors structurally unsafe to occupy, 3 additional floors do not meet local code requirements for occupancy, presence of asbestos/lead paint

GSA Number: 7-G-NM-0588

New York

Bldg. 3

VA Medical Center

Batavia Co: Genesee NY 14020-

Landholding Agency: VA

Property Number: 97200520001

Status: Unutilized

Comment: 5840 sq. ft., needs rehab, presence of asbestos, most recent use—offices, eligible for Natl Register of Historic Places

Ohio

Barker Historic House

Willow Island Locks and Dam

Newport Co: Washington OH 45768-9801

Location: Located at lock site, downstream of lock and dam structure

Landholding Agency: COE

Property Number: 31199120018

Status: Unutilized

Comment: 1600 sq. ft. bldg. with ½ acre of land, 2 story brick frame, needs rehab, on Natl Register of Historic Places, no utilities, off-site use only

Structure

Deer Creek Lake

Mt. Sterling Co: Pickaway OH 43143-

Landholding Agency: COE

Property Number: 31200530001

Status: Unutilized

Comment: 1321 sq. ft., brick, off-site use only

Residence

5037 Deer Road

Bowerston Co: Carroll OH 44695-

Landholding Agency: COE

Property Number: 31200540007

Status: Unutilized

Comment: 2412 sq. ft., brick, needs repair, presence of asbestos, off-site use only

Residence

28700 Milarcik Road

Tippecanoe Co: Harrison OH 44699-

Landholding Agency: COE

Property Number: 31200540008

Status: Unutilized

Comment: 2412 sq. ft., brick/masonry, off-site use only

Structure

21897 Deer Creek Road

Mt. Sterling Co: Pickaway OH 43143-

Landholding Agency: COE

Property Number: 31200540009

Status: Unutilized

Comment: 1321 sq. ft., brick, off-site use only

Bldg. 402

VA Medical Center

Dayton Co: Montgomery OH 45428-

Landholding Agency: VA

Property Number: 97199920004

Status: Unutilized

Comment: 4 floors, potential utilities, needs major rehab, presence of asbestos/lead paint, historic property

Pennsylvania

Mahoning Creek Reservoir

New Bethlehem Co: Armstrong PA 16242-

Landholding Agency: COE

Property Number: 31199210008

Status: Unutilized

Comment: 1015 sq. ft., 2 story brick residence, off-site use only

Dwelling

Lock & Dam 6, Allegheny River, 1260 River Rd.

Freeport Co: Armstrong PA 16229-2023

Landholding Agency: COE

Property Number: 31199620008

Status: Unutilized

Comment: 2652 sq. ft., 3-story brick house, in close proximity to Lock and Dam, available for interim use for nonresidential purposes

Govt. Dwelling

Youghiogheny River Lake

Confluence Co: Fayette PA 15424-9103

Landholding Agency: COE

Property Number: 31199640002

Status: Unutilized

Comment: 1421 sq. ft., 2-story brick w/basement, most recent use—residential

Dwelling

Lock & Dam 4, Allegheny River

Natrona Co: Allegheny PA 15065-2609

Landholding Agency: COE

Property Number: 31199710009

Status: Unutilized

Comment: 1664 sq. ft., 2-story brick residence, needs repair, off-site use only

Dwelling #1

Crooked Creek Lake

Ford City Co: Armstrong PA 16226-8815

Landholding Agency: COE

Property Number: 31199740002

Status: Excess

Comment: 2030 sq. ft., most recent use—residential, good condition, off-site use only

Dwelling #2

Crooked Creek Lake

Ford City Co: Armstrong PA 16226-8815

Landholding Agency: COE

Property Number: 31199740003

Status: Excess

Comment: 3045 sq. ft., most recent use—residential, good condition, off-site use only

Govt Dwelling

East Branch Lake

Wilcox Co: Elk PA 15870-9709

Landholding Agency: COE

Property Number: 31199740005

Status: Underutilized

Comment: approx. 5299 sq. ft., 1-story, most recent use—residence, off-site use only

Dwelling #1

Loyalhanna Lake

Saltsburg Co: Westmoreland PA 15681-9302

Landholding Agency: COE

Property Number: 31199740006

Status: Excess

Comment: 1996 sq. ft., most recent use—residential, good condition, off-site use only

Dwelling #2

Loyalhanna Lake

Saltsburg Co: Westmoreland PA 15681-9302

Landholding Agency: COE

Property Number: 31199740007

Status: Excess

Comment: 1996 sq. ft., most recent use—residential, good condition, off-site use only

Dwelling #1

Woodcock Creek Lake

Saegertown Co: Crawford PA 16433-0629

Landholding Agency: COE

Property Number: 31199740008

Status: Excess

Comment: 2106 sq. ft., most recent use—residential, good condition, off-site use only

Dwelling #2

Lock & Dam 6, 1260 River Road

Freeport Co: Armstrong PA 16229-2023

Landholding Agency: COE

Property Number: 31199740009

Status: Excess

Comment: 2652 sq. ft., most recent use—residential, good condition, off-site use only

Dwelling #2

Youghiogheny River Lake

Confluence Co: Fayette PA 15424-9103

Landholding Agency: COE

Property Number: 31199830003

Status: Excess

Comment: 1421 sq. ft., 2-story + basement, most recent use—residential

Residence A

2045 Pohopoco Drive

Lehighton Co: Carbon PA 18235-

Landholding Agency: COE

Property Number: 31200410007

Status: Unutilized

Comment: 1200 sq. ft., presence of asbestos, off-site use only

Virginia

Metal Bldg.

John H. Kerr Dam & Reservoir

Co: Boydton VA

Landholding Agency: COE

Property Number: 31199620009

Status: Excess

Comment: 800 sq. ft., most recent use—storage, off-site use only

Wisconsin

Bldg. 8

VA Medical Center

County Highway E

Tomah Co: Monroe WI 54660-

Landholding Agency: VA

Property Number: 97199010056

Status: Underutilized

Comment: 2200 sq. ft., 2 story wood frame, possible asbestos, potential utilities, structural deficiencies, needs rehab.

Land (by State)

Alabama

VA Medical Center

VAMC

Tuskegee Co: Macon AL 36083-

Landholding Agency: VA

Property Number: 97199010053

Status: Underutilized

Comment: 40 acres, buffer to VA Medical Center, potential utilities, undeveloped.

Arkansas

Parcel 01

DeGray Lake

Section 12

Arkadelphia Co: Clark AR 71923-9361

Landholding Agency: COE

Property Number: 31199010071

Status: Unutilized

Comment: 77.6 acres

Parcel 02

DeGray Lake

Section 13

Arkadelphia Co: Clark AR 71923-9361

Landholding Agency: COE

Property Number: 31199010072

Status: Unutilized

Comment: 198.5 acres

Parcel 03

DeGray Lake

Section 18

Arkadelphia Co: Clark AR 71923-9361

Landholding Agency: COE

Property Number: 31199010073

Status: Unutilized

Comment: 50.46 acres

Parcel 04

DeGray Lake

Section 24, 25, 30 and 31

Arkadelphia Co: Clark AR 71923-9361

Landholding Agency: COE

Property Number: 31199010074

Status: Unutilized

Comment: 236.37 acres

Parcel 05

DeGray Lake

Section 16

Arkadelphia Co: Clark AR 71923-9361

Landholding Agency: COE

Property Number: 31199010075

Status: Unutilized

Comment: 187.30 acres

Parcel 06

DeGray Lake

Section 13

Arkadelphia Co: Clark AR 71923-9361

Landholding Agency: COE

Property Number: 31199010076

Status: Unutilized

Comment: 13.0 acres

Parcel 07

DeGray Lake

Section 34

Arkadelphia Co: Hot Springs AR 71923-9361

Landholding Agency: COE

Property Number: 31199010077

Status: Unutilized

Comment: 0.27 acres

Parcel 08

DeGray Lake

Section 13

Arkadelphia Co: Clark AR 71923-9361

Landholding Agency: COE

Property Number: 31199010078

Status: Unutilized

Comment: 14.6 acres

Parcel 09

DeGray Lake

Section 12

Arkadelphia Co: Hot Springs AR 71923-9361

Landholding Agency: COE

Property Number: 31199010079

Status: Unutilized

Comment: 6.60 acres

Parcel 10

DeGray Lake

Section 12

Arkadelphia Co: Hot Springs AR 71923-9361

Landholding Agency: COE

Property Number: 31199010080

Status: Unutilized

Comment: 4.5 acres

Parcel 11

DeGray Lake

Section 19

Arkadelphia Co: Hot Springs AR 71923-9361

Landholding Agency: COE

Property Number: 31199010081

Status: Unutilized

Comment: 19.50 acres

Lake Greeson

Section 7, 8 and 18

Murfreesboro Co: Pike AR 71958-9720

Landholding Agency: COE

Property Number: 31199010083

Status: Unutilized

Comment: 46 acres

California

Land

4150 Clement Street

San Francisco Co: San Francisco CA 94121-

Landholding Agency: VA

Property Number: 97199240001

Status: Underutilized

Comment: 4 acres; landslide area.

Idaho

2.3 acre parcel

25822 Middleton Road

Middleton Co: Canyon ID 83644-

Landholding Agency: GSA

Property Number: 54200540006

Status: Excess

Comment: 2.3 acres

GSA Number : 9-I-ID-558

Indiana

Tanner's Creek

Access Site off Rt. 50

Lawrenceburg Co: IN

Landholding Agency: GSA

Property Number: 54200430022

Status: Excess

Comment: 8.45 acres, boat launch, flowage easement

GSA Number: 1-D-IN-571-C

Iowa

40.66 acres

VA Medical Center

1515 West Pleasant St.

Knoxville Co: Marion IA 50138-

Landholding Agency: VA

Property Number: 97199740002

Status: Unutilized

Comment: golf course, easement requirements

Kansas

Parcel 1

El Dorado Lake

Section 13, 24, and 18

(See County) Co: Butler KS

Landholding Agency: COE

Property Number: 31199010064

Status: Unutilized

Comment: 61 acres; most recent use—recreation

Kentucky

Tract 2625

Barkley Lake, Kentucky, and Tennessee

Cadiz Co: Trigg KY 42211-

Location: Adjoining the village of Rockcastle

Landholding Agency: COE

Property Number: 31199010025

Status: Excess

Comment: 2.57 acres; rolling and wooded

Tract 2709-10 and 2710-2

Barkley Lake, Kentucky and Tennessee

Cadiz Co: Trigg KY 42211-

Location: 2½ miles in a southerly direction from the village of Rockcastle

Landholding Agency: COE

Property Number: 31199010026

Status: Excess

Comment: 2.00 acres; steep and wooded

Tract 2708-1 and 2709-1

Barkley Lake, Kentucky and Tennessee

Cadiz Co: Trigg KY 42211-

Location: 2½ miles in a southerly direction from the village of Rockcastle

Landholding Agency: COE

Property Number: 31199010027

Status: Excess

Comment: 3.59 acres; rolling and wooded; no utilities

Tract 2800

Barkley Lake, Kentucky and Tennessee

Cadiz Co: Trigg KY 42211-

Location: 4½ miles in a southeasterly direction from the village of Rockcastle

Landholding Agency: COE

Property Number: 31199010028

Status: Excess

Comment: 5.44 acres; steep and wooded

Tract 2915

Barkley Lake, Kentucky and Tennessee

Cadiz Co: Trigg KY 42211-

Location: 6½ miles west of Cadiz

Landholding Agency: COE

Property Number: 31199010029

Status: Excess

Comment: 5.76 acres; steep and wooded; no utilities

Tract 2702

Barkley Lake, Kentucky and Tennessee

Cadiz Co: Trigg KY 42211-

Location: 1 mile in a southerly direction from the village of Rockcastle

Landholding Agency: COE

Property Number: 31199010031

Status: Excess

Comment: 4.90 acres; wooded; no utilities

Tract 4318

Barkley Lake, Kentucky and Tennessee

Canton Co: Trigg KY 42212-

Location: Trigg Co. adjoining the city of Canton, KY on the waters of Hopson Creek

Landholding Agency: COE

Property Number: 31199010032

Status: Excess

Comment: 8.24 acres; steep and wooded

Tract 4502

Barkley Lake, Kentucky and Tennessee

Canton Co: Trigg KY 42212-

Location: 3½ miles in a southerly direction from Canton, KY

Landholding Agency: COE

Property Number: 31199010033

Status: Excess

Comment: 4.26 acres; steep and wooded

Tract 4611

Barkley Lake, Kentucky and Tennessee

Canton Co: Trigg KY 42212-

Location: 5 miles south of Canton, KY

Landholding Agency: COE

Property Number: 31199010034

Status: Excess

Comment: 10.51 acres; steep and wooded; no utilities

Tract 4619

Barkley Lake, Kentucky and Tennessee

Canton Co: Trigg KY 42212-

Location: 4½ miles south from Canton, KY

Landholding Agency: COE

Property Number: 31199010035

Status: Excess

Comment: 2.02 acres; steep and wooded; no utilities

Tract 4817

Barkley Lake, Kentucky and Tennessee

Canton Co: Trigg KY 42212-

Location: 6½ miles south of Canton, KY

Landholding Agency: COE

Property Number: 31199010036

Status: Excess

Comment: 1.75 acres; wooded

Tract 1217

Barkley Lake, Kentucky and Tennessee

Eddyville Co: Lyon KY 42030-

Location: On the north side of the Illinois Central Railroad

Landholding Agency: COE

Property Number: 31199010042

Status: Excess

Comment: 5.80 acres; steep and wooded

Tract 1906

Barkley Lake, Kentucky and Tennessee

Eddyville Co: Lyon KY 42030-

Location: Approximately 4 miles east of Eddyville, KY

Landholding Agency: COE

Property Number: 31199010044

Status: Excess

Comment: 25.86 acres; rolling steep and partially wooded; no utilities

Tract 1907

Barkley Lake, Kentucky and Tennessee

Eddyville Co: Lyon KY 42038-

Location: On the waters of Pilfen Creek, 4 miles east of Eddyville, KY

Landholding Agency: COE

Property Number: 31199010045

Status: Excess

Comment: 8.71 acres; rolling steep and wooded; no utilities

Tract 2001 #1

Barkley Lake, Kentucky and Tennessee

Eddyville Co: Lyon KY 42030-

Location: Approximately 4½ miles east of Eddyville, KY

Landholding Agency: COE

Property Number: 31199010046

Status: Excess

Comment: 47.42 acres; steep and wooded; no utilities

Tract 2001 #2

Barkley Lake, Kentucky and Tennessee

Eddyville Co: Lyon KY 42030-

Location: Approximately 4½ miles east of Eddyville, KY

Landholding Agency: COE

Property Number: 31199010047

Status: Excess

Comment: 8.64 acres; steep and wooded; no utilities

Tract 2005

Barkley Lake, Kentucky and Tennessee

Eddyville Co: Lyon KY 42030-

Location: Approximately 5½ miles east of Eddyville, KY

Landholding Agency: COE

Property Number: 31199010048

Status: Excess

Comment: 4.62 acres; steep and wooded; no utilities

Tract 2307

Barkley Lake, Kentucky and Tennessee

Eddyville Co: Lyon KY 42030-

Location: Approximately 7½ miles southeasterly of Eddyville, KY

Landholding Agency: COE

Property Number: 31199010049

Status: Excess

Comment: 11.43 acres; steep; rolling and wooded; no utilities

Tract 2403

Barkley Lake, Kentucky and Tennessee

Eddyville Co: Lyon KY 42030-

Location: 7 miles southeasterly of Eddyville, KY

Landholding Agency: COE

Property Number: 31199010050

Status: Excess

Comment: 1.56 acres; steep and wooded; no utilities

Tract 2504

Barkley Lake, Kentucky and Tennessee

Eddyville Co: Lyon KY 42030-

Location: 9 miles southeasterly of Eddyville, KY

Landholding Agency: COE

Property Number: 31199010051

Status: Excess

Comment: 24.46 acres; steep and wooded; no utilities

Tract 214

Barkley Lake, Kentucky and Tennessee

Grand Rivers Co: Lyon KY 42045-

Location: South of the Illinois Central Railroad, 1 mile east of the Cumberland River

Landholding Agency: COE

Property Number: 31199010052

Status: Excess

Comment: 5.5 acres; wooded; no utilities

Tract 215

Barkley Lake, Kentucky and Tennessee

Grand Rivers Co: Lyon KY 42045-

Location: 5 miles southwest of Kuttawa

Landholding Agency: COE

Property Number: 31199010053

Status: Excess

Comment: 1.40 acres; wooded; no utilities

Tract 241

Barkley Lake, Kentucky and Tennessee

Grand Rivers Co: Lyon KY 42045-

Location: Old Henson Ferry Road, 6 miles west of Kuttawa, KY

Landholding Agency: COE

Property Number: 31199010054

Status: Excess

Comment: 1.26 acres; steep and wooded; no utilities

Tracts 306, 311, 315 and 325

Barkley Lake, Kentucky and Tennessee

Grand Rivers Co: Lyon KY 42045-

Location: 2.5 miles southwest of Kuttawa, KY on the waters of Cypress Creek

Landholding Agency: COE

Property Number: 31199010055

Status: Excess

Comment: 38.77 acres; steep and wooded; no utilities

Tracts 2305, 2306, and 2400-1

Barkley Lake, Kentucky and Tennessee

Eddyville Co: Lyon KY 42030-

Location: 6½ miles southeasterly of Eddyville, KY

Landholding Agency: COE

Property Number: 31199010056

Status: Excess

Comment: 97.66 acres; steep rolling and wooded; no utilities

Tracts 5203 and 5204

Barkley Lake, Kentucky and Tennessee

Linton Co: Trigg KY 42212-

Location: Village of Linton, KY state highway 1254

Landholding Agency: COE

Property Number: 31199010058

Status: Excess

Comment: 0.93 acres; rolling, partially wooded; no utilities

Tract 5240

Barkley Lake, Kentucky and Tennessee

Linton Co: Trigg KY 42212-

Location: 1 mile northwest of Linton, KY

Landholding Agency: COE

Property Number: 31199010059

Status: Excess

Comment: 2.26 acres; steep and wooded; no utilities

Tract 4628

Barkley Lake, Kentucky and Tennessee

Canton Co: Trigg KY 42212-

Location: 4½ miles south from Canton, KY

Landholding Agency: COE

Property Number: 31199011621

Status: Excess

Comment: 3.71 acres; steep and wooded; subject to utility easements

Tract 4619-B

Barkley Lake, Kentucky and Tennessee

Canton Co: Trigg KY 42212-

Location: 4 1/2 miles south from Canton, KY

Landholding Agency: COE

Property Number: 31199011622

Status: Excess

Comment: 1.73 acres; steep and wooded; subject to utility easements

Tract 2403-B

Barkley Lake, Kentucky and Tennessee

Eddyville Co: Lyon KY 42038-

Location: 7 miles southeasterly from Eddyville, KY

Landholding Agency: COE

Property Number: 31199011623

Status: Unutilized

Comment: 0.70 acres, wooded; subject to utility easements

Tract 241-B

Barkley Lake, Kentucky and Tennessee

Grand Rivers Co: Lyon KY 42045-

Location: South of Old Henson Ferry Road, 6 miles west of Kuttawa, KY

Landholding Agency: COE

Property Number: 31199011624

Status: Excess

Comment: 11.16 acres; steep and wooded; subject to utility easements

Tracts 212 and 237

Barkley Lake, Kentucky and Tennessee

Grand Rivers Co: Lyon KY 42045-

Location: Old Henson Ferry Road, 6 miles west of Kuttawa, KY

Landholding Agency: COE

Property Number: 31199011625

Status: Excess

Comment: 2.44 acres; steep and wooded; subject to utility easements

Tract 215-B

Barkley Lake, Kentucky and Tennessee

Grand Rivers Co: Lyon KY 42045-

Location: 5 miles southwest of Kuttawa

Landholding Agency: COE

Property Number: 31199011626

Status: Excess

Comment: 1.00 acres; wooded; subject to utility easements

Tract 233

Barkley Lake, Kentucky and Tennessee

Grand Rivers Co: Lyon KY 42045-

Location: 5 miles southwest of Kuttawa

Landholding Agency: COE

Property Number: 31199011627

Status: Excess

Comment: 1.00 acres; wooded; subject to utility easements

Tract N-819

Dale Hollow Lake & Dam Project

Illwill Creek, Hwy 90

Hobart Co: Clinton KY 42601-

Landholding Agency: COE

Property Number: 31199140009

Status: Underutilized

Comment: 91 acres, most recent use—hunting, subject to existing easements

Portion of Lock & Dam No. 1

Kentucky River

Carrolton Co: Carroll KY 41008-0305

Landholding Agency: COE

Property Number: 31199320003

Status: Unutilized

Comment: approx. 3.5 acres (sloping), access monitored

Tract No. F-610

Buckhorn Lake Project

Buckhorn KY 41721-

Landholding Agency: COE

Property Number: 31200240001

Status: Unutilized

Comment: 0.64 acres, encroachments, most recent use—flood control purposes

Louisiana

Wallace Lake Dam and Reservoir

Shreveport Co: Caddo LA 71103-

Landholding Agency: COE

Property Number: 31199011009

Status: Unutilized

Comment: 10.81 acres; wildlife/forestry; no utilities

Bayou Bodcau Dam and Reservoir

Haughton Co: Caddo LA 71037-9707

Location: 35 miles Northeast of Shreveport, LA

Landholding Agency: COE

Property Number: 31199011010

Status: Unutilized

Comment: 203 acres; wildlife/forestry; no utilities

Maryland

Railroad

Indian Head

White Plains Co: Charles MD

Landholding Agency: GSA

Property Number: 54200610006

Status: Excess

Comment: 160.01 acres containing railroad track 13.39 miles long and 100 feet wide with 6 railroad cars, easements present, adjacent to wetlands

GSA Number: 4-N-MD-0617

Michigan

Lots 2-6

Lawndale Park Addition

Ludington Co: Mason MI 49431-

Landholding Agency: GSA

Property Number: 54200540007

Status: Excess

Comment: 0.81 acre—undeveloped

GSA Number: 1-G-MI-537-2

Mississippi

Parcel 7

Grenada Lake

Sections 22, 23, T24N

Grenada Co: Yalobusha MS 38901-0903

Landholding Agency: COE

Property Number: 31199011019

Status: Underutilized

Comment: 100 acres; no utilities; intermittently used under lease—expires 1994

Parcel 8

Grenada Lake

Section 20, T24N

Grenada Co: Yalobusha MS 38901-0903

Landholding Agency: COE

Property Number: 31199011020

Status: Underutilized

Comment: 30 acres; no utilities; intermittently used under lease—expires 1994

Parcel 9

Grenada Lake

Section 20, T24N, R7E

Grenada Co: Yalobusha MS 38901-0903

Landholding Agency: COE

Property Number: 31199011021

Status: Underutilized

Comment: 23 acres; no utilities; intermittently used under lease—expires 1994

Parcel 10

Grenada Lake

Sections 16, 17, 18 T24N R8E

Grenada Co: Calhoun MS 38901-0903

Landholding Agency: COE

Property Number: 31199011022

Status: Underutilized

Comment: 490 acres; no utilities; intermittently used under lease—expires 1994

Parcel 2

Grenada Lake

Section 20 and T23N, R5E

Grenada Co: Grenada MS 38901-0903

Landholding Agency: COE

Property Number: 31199011023

Status: Underutilized

Comment: 60 acres; no utilities; most recent use—wildlife and forestry management

Parcel 3

Grenada Lake

Section 4, T23N, R5E

Grenada Co: Yalobusha MS 38901-0903

Landholding Agency: COE

Property Number: 31199011024

Status: Underutilized

Comment: 120 acres; no utilities; most recent use—wildlife and forestry management; (135 acres/agriculture lease)

Parcel 4

Grenada Lake

Section 2 and 3 T23N, R5E

Grenada Co: Yalobusha MS 38901-0903

Landholding Agency: COE

Property Number: 31199011025

Status: Underutilized

Comment: 60 acres; no utilities; most recent use—wildlife and forestry management

Parcel 5

Grenada Lake

Section 7, T24N, R6E

Grenada Co: Yalobusha MS 38901-0903

Landholding Agency: COE

Property Number: 31199011026

Status: Underutilized

Comment: 20 acres; no utilities; most recent use—wildlife and forestry management; (14 acres/agriculture lease)

Parcel 6

Grenada Lake

Section 9, T24N, R6E

Grenada Co: Yalobusha MS 38903-0903

Landholding Agency: COE

Property Number: 31199011027

Status: Underutilized

Comment: 80 acres; no utilities; most recent use—wildlife and forestry management

Parcel 11

Grenada Lake

Section 20, T24N, R8E

Grenada Co: Calhoun MS 38901-0903

Landholding Agency: COE

Property Number: 31199011028

Status: Underutilized

Comment: 30 acres; no utilities; most recent use—wildlife and forestry management

Parcel 12

Grenada Lake

Section 25, T24N, R7E

Grenada Co: Yalobusha MS 38390-10903

Landholding Agency: COE

Property Number: 31199011029

Status: Underutilized

Comment: 30 acres; no utilities; most recent use—wildlife and forestry management

Parcel 13

Grenada Lake

Section 34, T24N, R7E

Grenada Co: Yalobusha MS 38903-0903

Landholding Agency: COE

Property Number: 31199011030

Status: Underutilized

Comment: 35 acres; no utilities; most recent use—wildlife and forestry management; (11 acres/agriculture lease)

Parcel 14

Grenada Lake

Section 3, T23N, R6E

Grenada Co: Yalobusha MS 38901-0903

Landholding Agency: COE

Property Number: 31199011031

Status: Underutilized

Comment: 15 acres; no utilities; most recent use—wildlife and forestry management

Parcel 15

Grenada Lake

Section 4, T24N, R6E

Grenada Co: Yalobusha MS 38901-0903

Landholding Agency: COE

Property Number: 31199011032

Status: Underutilized

Comment: 40 acres; no utilities; most recent use—wildlife and forestry management

Parcel 16

Grenada Lake

Section 9, T23N, R6E

Grenada Co: Yalobusha MS 38901-0903

Landholding Agency: COE

Property Number: 31199011033

Status: Underutilized

Comment: 70 acres; no utilities; most recent use—wildlife and forestry management

Parcel 17

Grenada Lake

Section 17, T23N, R7E

Grenada Co: Grenada MS 28901-0903

Landholding Agency: COE

Property Number: 31199011034

Status: Underutilized

Comment: 35 acres; no utilities; most recent use—wildlife and forestry management

Parcel 18

Grenada Lake

Section 22, T23N, R7E

Grenada Co: Grenada MS 28902-0903

Landholding Agency: COE

Property Number: 31199011035

Status: Underutilized

Comment: 10 acres; no utilities; most recent use—wildlife and forestry management

Parcel 19

Grenada Lake

Section 9, T22N, R7E

Grenada Co: Grenada MS 38901-0903

Landholding Agency: COE

Property Number: 31199011036

Status: Underutilized

Comment: 20 acres; no utilities; most recent use—wildlife and forestry management

Missouri

Harry S Truman Dam & Reservoir

Warsaw Co: Benton MO 65355-

Location: Triangular shaped parcel southwest of access road “B”, part of Bledsoe Ferry Park Tract 150

Landholding Agency: COE

Property Number: 31199030014

Status: Underutilized

Comment: 17 acres; potential utilities

Ohio

Plats 9-72, 9-73

Davis Street

Niles Co: OH 44446-

Landholding Agency: GSA

Property Number: 54200530007

Status: Excess

Comment: 12,082 sq ft, narrow right of way, no utilities

GSA Number: 1-1-OH-826

Oklahoma

Pine Creek Lake

Section 27

(See County) Co: McCurtain OK

Landholding Agency: COE

Property Number: 31199010923

Status: Unutilized

Comment: 3 acres; no utilities; subject to right of way for Oklahoma State Highway 3

Pennsylvania

Mahoning Creek Lake

New Bethlehem Co: Armstrong PA 16242-9603

Location: Route 28 north to Belknap, Road #4

Landholding Agency: COE

Property Number: 31199010018

Status: Excess

Comment: 258 acres; steep and densely wooded

Tracts 610, 611, 612

Shenango River Lake

Sharpsville Co: Mercer PA 16150-

Location: I-79 North, I-80 West, Exit Sharon, R18 North 4 miles, left on R518, right on Mercer Avenue

Landholding Agency: COE

Property Number: 31199011001

Status: Excess

Comment: 2409 acres; subject to flowage easement

Tracts L24, L26

Crooked Creek Lake

Co: Armstrong PA 03051-

Location: Left bank—55 miles downstream of dam

Landholding Agency: COE

Property Number: 31199011011

Status: Unutilized

Comment: 759 acres; potential for utilities

Portion of Tract L-21A

Crooked Creek Lake, LR 03051

Ford City Co: Armstrong PA 16226-

Landholding Agency: COE

Property Number: 31199430012

Status: Unutilized

Comment: Approximately 172 acres of undeveloped land, subject to gas rights

Parcel B

Valley Forge Army Hospital

Schuylkill Township

Phoenixville Co: Cheste PA 19460-

Landholding Agency: GSA

Property Number: 54200610009

Status: Surplus

Comment: 1.172 acres, parking area

GSA Number: 4GRPA0666B

Tennessee

Tract 6827

Barkley Lake

Dover Co: Stewart TN 37058-

Location: 2½ miles west of Dover, TN.

Landholding Agency: COE

Property Number: 31199010927

Status: Excess

Comment: .57 acres; subject to existing easements

Tracts 6002-2 and 6010

Barkley Lake

Dover Co: Stewart TN 37058-

Location: 3½ miles south of village of Tabaccoport.

Landholding Agency: COE

Property Number: 31199010928

Status: Excess

Comment: 100.86 acres; subject to existing easements

Tract 11516

Barkley Lake

Ashland City Co: Dickson TN 37015

Location: ½ mile downstream from Cheatham Dam

Landholding Agency: COE

Property Number: 31199010929

Status: Excess

Comment: 26.25 acres; subject to existing easements

Tract 2319

J. Percy Priest Dam and Reservoir

Murfreesboro Co: Rutherford TN 37130-

Location: West of Buckeye Bottom Road

Landholding Agency: COE

Property Number: 31199010930

Status: Excess

Comment: 14.48 acres; subject to existing easements

Tract 2227

J. Percy Priest Dam and Resorvoir

Murfreesboro Co: Rutherford TN 37130

Location: Old Jefferson Pike

Landholding Agency: COE

Property Number: 31199010931

Status: Excess

Comment: 2.27 acres; subject to existing easements

Tract 2107

J. Percy Priest Dam and Reservoir

Murfreesboro Co: Rutherford TN 37130

Location: Across Fall Creek near Fall Creek camping area

Landholding Agency: COE

Property Number: 31199010932

Status: Excess

Comment: 14.85 acres; subject to existing easements

Tracts 2601, 2602, 2603, 2604

Cordell Hull Lake and Dam Project Doe Row Creek

Gainesboro Co: Jackson TN 38562-

Location: TN Highway 56

Landholding Agency: COE

Property Number: 31199010933

Status: Unutilized

Comment: 11 acres; subject to existing easements

Tract 1911

J. Percy Priest Dam and Reservoir

Murfreesboro Co: Rutherford TN 37130

Location: East of Lamar Road

Landholding Agency: COE

Property Number: 31199010934

Status: Excess

Comment: 6.92 acres; subject to existing easements

Tract 7206

Barkley Lake

Dover Co: Stewart TN 37058-

Location: 2½ miles SE of Dover, TN

Landholding Agency: COE

Property Number: 31199010936

Status: Excess

Comment: 10.15 acres; subject to existing easements

Tracts 8813, 8814

Barkley Lake

Cumberland Co: Stewart TN 37050-

Location: 1½ miles East of Cumberland City.

Landholding Agency: COE

Property Number: 31199010937

Status: Excess

Comment: 96 acres; subject to existing easements

Tract 8911

Barkley Lake

Cumberland City Co: Montgomery TN 37050-

Location: 4 miles east of Cumberland City.

Landholding Agency: COE

Property Number: 31199010938

Status: Excess

Comment: 7.7 acres; subject to existing easements

Tract 11503

Barkley Lake

Ashland City Co: Cheatham TN 37015-

Location: 2 miles downstream from Cheatham Dam.

Landholding Agency: COE

Property Number: 31199010939

Status: Excess

Comment: 1.1 acres; subject to existing easements

Tracts 11523, 11524

Barkley Lake

Ashland City Co: Cheatham TN 37015-

Location: 2½ miles downstream from Cheatham Dam

Landholding Agency: COE

Property Number: 31199010940

Status: Excess

Comment: 19.5 acres; subject to existing easements

Tract 6410

Barkley Lake

Bumpus Mills Co: Stewart TN 37028

Location: 4½ miles SW. of Bumpus Mills

Landholding Agency: COE

Property Number: 31199010941

Status: Excess

Comment: 17 acres; subject to existing easements

Tract 9707

Barkley Lake

Palmyer Co: Montgomery TN 37142-

Location: 3 miles NE of Palmyer, TN Highway 149

Landholding Agency: COE

Property Number: 31199010943

Status: Excess

Comment: 6.6 acres; subject to existing easements

Tract 6949

Barkley Lake

Dover Co: Stewart TN 37058-

Location: 1 ½ miles SE of Dover, TN

Landholding Agency: COE

Property Number: 31199010944

Status: Excess

Comment: 29.67 acres; subject to existing easements

Tracts 6005 and 6017

Barkley Lake

Dover Co: Stewart TN 37058-

Location: 3 miles south of Village of Tobaccoport

Landholding Agency: COE

Property Number: 31199011173

Status: Excess

Comment: 5 acres; subject to existing easements

Tracts K-1191, K-1135

Old Hickory Lock and Dam

Hartsville Co: Trousdale TN 37074-

Landholding Agency: COE

Property Number: 31199130007

Status: Underutilized

Comment: 54 acres, (portion in floodway), most recent use—recreation

Tract A-102

Dale Hollow Lake & Dam Project

Canoe Ridge, State Hwy 52

Celina Co: Clay TN 38551-

Landholding Agency: COE

Property Number: 31199140006

Status: Underutilized

Comment: 351 acres, most recent use—hunting, subject to existing easements

Tract A-120

Dale Hollow Lake & Dam Project

Swann Ridge, State Hwy No. 53

Celina Co: Clay TN 38551-

Landholding Agency: COE

Property Number: 31199140007

Status: Underutilized

Comment: 883 acres, most recent use—hunting, subject to existing easements

Tract D-185

Dale Hollow Lake & Dam Project

Ashburn Creek, Hwy No. 53

Livingston Co: Clay TN 38570-

Landholding Agency: COE

Property Number: 31199140010

Status: Underutilized

Comment: 97 acres, most recent use—hunting, subject to existing easements

Texas

Land

Olin E. Teague Veterans Center

1901 South 1st Street

Temple Co: Bell TX 76504-

Landholding Agency: VA

Property Number: 97199010079

Status: Underutilized

Comment: 13 acres, portion formerly landfill, portion near flammable materials, railroad crosses property, potential utilities

Wisconsin

VA Medical Center

County Highway E

Tomah Co: Monroe WI 54660

Landholding Agency: VA

Property Number: 97199010054

Status: Underutilized

Comment: 12.4 acres, serves as buffer between center and private property, no utilities

Suitable/Unavailable Properties

Buildings (by State)

Idaho

Bldg. CFA-613

Central Facilities Area

Idaho National Engineering Lab

Scoville Co: Butte ID 83415-

Landholding Agency: Energy

Property Number: 41199630001

Status: Unutilized

Comment: 1219 sq. ft., most recent use—sleeping quarters, presence of asbestos, off-site use only

Illinois

Bldg. 7

Ohio River Locks & Dam No. 53

Grand Chain Co: Pulaski IL 62941-9801

Location: Ohio River Locks and Dam No. 53 at Grand Chain

Landholding Agency: COE

Property Number: 31199010001

Status: Unutilized

Comment: 900 sq. ft.; 1 floor wood frame; most recent use—residence

Bldg. 6

Ohio River Locks & Dam No. 53

Grand Chain Co: Pulaski IL 62941-9801

Location: Ohio River Locks and Dam No. 53 at Grand Chain

Landholding Agency: COE

Property Number: 31199010002

Status: Unutilized

Comment: 900 sq. ft.; one floor wood frame; most recent use—residence

Bldg. 5

Ohio River Locks & Dam No. 53

Grand Chain Co: Pulaski IL 62941-9801

Location: Ohio River Locks and Dam No. 53 at Grand Chain

Landholding Agency: COE

Property Number: 31199010003

Status: Unutilized

Comment: 900 sq. ft.; one floor wood frame; most recent use—residence

Bldg. 4

Ohio River Locks & Dam No. 53

Grand Chain Co: Pulaski IL 62941-9801

Location: Ohio River Locks and Dam No. 53 at Grand Chain

Landholding Agency: COE

Property Number: 31199010004

Status: Unutilized

Comment: 900 sq. ft.; one floor wood frame; most recent use—residence

Bldg. 3

Ohio River Locks & Dam No. 53

Grand Chain Co: Pulaski IL 62941-9801

Location: Ohio River Locks and Dam No. 53 at Grand Chain

Landholding Agency: COE

Property Number: 31199010005

Status: Unutilized

Comment: 900 sq. ft.; one floor wood frame

Bldg. 2

Ohio River Locks & Dam No. 53

Grand Chain Co: Pulaski IL 62941-9801

Location: Ohio River Locks and Dam No. 53 at Grand Chain

Landholding Agency: COE

Property Number: 31199010006

Status: Unutilized

Comment: 900 sq. ft.; one floor wood frame; most recent use—residence

Bldg. 1

Ohio River Locks & Dam No. 53

Grand Chain Co: Pulaski IL 62941-9801

Location: Ohio River Locks and Dam No. 53 at Grand Chain

Landholding Agency: COE

Property Number: 31199010007

Status: Unutilized

Comment: 900 sq. ft.; one floor wood frame; most recent use—residence

Maryland

Tower Site D

Fort Detrick

Damascus Co: Howard MD 20872-

Landholding Agency: GSA

Property Number: 54200540020

Status: Excess

Comment: 2.71 acre parcel with 3143 sq. ft. communications bldg., storage, steel tower, presence of asbestos/lead paint

GSA Number: 4-D-MD-0620

Montana

VA MT Healthcare

210 S. Winchester

Miles City Co: Custer MT 59301-

Landholding Agency: VA

Property Number: 97200030001

Status: Underutilized

Comment: 18 buildings, total sq. ft. = 123,851, presence of asbestos, most recent use—clinic/office/food production

New York

Social Sec. Admin. Bldg.

517 N. Barry St.

Olean NY 10278-0004

Landholding Agency: GSA

Property Number: 54200230009

Status: Excess

Comment: 9174 sq. ft., poor condition, most recent use—office

GSA Number: 1-G-NY-0895

Ohio

Bldg.—Berlin Lake

7400 Bedell Road

Berlin Center Co: Mahoning OH 44401-9797

Landholding Agency: COE

Property Number: 31199640001

Status: Unutilized

Comment: 1420 sq. ft., 2-story brick w/garage and basement, most recent use—residential, secured w/alternate access

Bldg. 116

VA Medical Center

Dayton Co: Montgomery OH 45428-

Landholding Agency: VA

Property Number: 97199920002

Status: Unutilized

Comment: 3 floors, potential utilities, needs major rehab, presence of asbestos/lead paint, historic property

Pennsylvania

Tract 403A

Grays Landing Lock & Dam Project

Greensboro Co: Greene PA 15338-

Landholding Agency: COE

Property Number: 31199430021

Status: Unutilized

Comment: 620 sq. ft., 2-story, needs repair, most recent use—residential, if used for habitation must be flood proofed or removed off-site

Tract 403B

Grays Landing Lock & Dam Project

Greensboro Co: Greene PA 15338-

Landholding Agency: COE

Property Number: 31199430022

Status: Unutilized

Comment: 1600 sq. ft., 2-story, brick structure, needs repair, most recent use—residential, if used for habitation must be flood proofed or removed off-site

Tract 403C

Grays Landing Lock & Dam Project

Greensboro Co: Greene PA 15338-

Landholding Agency: COE

Property Number: 31199430023

Status: Unutilized

Comment: 672 sq. ft., 2-story carriage house/stable barn type structure, needs repair, most recent use—storage/garage, if used for habitation must be flood proofed or removed

Wisconsin

Bldg. 2

VA Medical Center

5000 West National Ave.

Milwaukee WI 53295-

Landholding Agency: VA

Property Number: 97199830002

Status: Underutilized

Comment: 133,730 sq. ft., needs rehab, presence of asbestos/lead paint, most recent use—storage

Land (by State)

Illinois

Lake Shelbyville

Shelbyville Co: Shelby & Moultrie IL 62565-9804

Landholding Agency: COE

Property Number: 31199240004

Status: Unutilized

Comment: 5 parcels of land equalling 0.70 acres, improved w/4 small equipment storage bldgs. and a small access road, easement restrictions

Iowa

38 acres

VA Medical Center

1515 West Pleasant St.

Knoxville Co: Marion IA 50138-

Landholding Agency: VA

Property Number: 97199740001

Status: Unutilized

Comment: Golf course

Michigan

IOM Site

Chesterfield Road

Chesterfield Co: Macomb MI-

Landholding Agency: GSA

Property Number: 54200340008

Status: Excess

Comment: Approx. 17.4 acres w/concrete block bldg. in poor condition, most recent use—radio antenna field, narrow right-of-way

GSA Number: 1-D-MI-0603F

VA Medical Center

5500 Armstrong Road

Battle Creek Co: Calhoun MI 49016-

Landholding Agency: VA

Property Number: 97199010015

Status: Underutilized

Comment: 20 acres, used as exercise trails and storage areas, potential utilities

New York

VA Medical Center

Fort Hill Avenue

Canandaigua Co: Ontario NY 14424-

Landholding Agency: VA

Property Number: 97199010017

Status: Underutilized

Comment: 27.5 acres, used for school ballfield and parking, existing utilities easements, portion leased

Pennsylvania

East Branch Clarion River Lake

Wilcox Co: Elk PA

Location: Free camping area on the right bank off entrance roadway

Landholding Agency: COE

Property Number: 31199011012

Status: Underutilized

Comment: 1 acre; most recent use—free campground

Dashields Locks and Dam

(Glenwillard, PA)

Crescent Twp. Co: Allegheny PA 15046-0475

Landholding Agency: COE

Property Number: 31199210009

Status: Unutilized

Comment: 0.58 acres, most recent use—baseball field

VA Medical Center

New Castle Road

Butler Co: Butler PA 16001-

Landholding Agency: VA

Property Number: 97199010016

Status: Underutilized

Comment: Approx. 9.29 acres, used for patient recreation, potential utilities

Land No. 645

VA Medical Center

Highland Drive

Pittsburgh Co: Allegheny PA 15206

Location: Between Campania and Wiltsie Streets

Landholding Agency: VA

Property Number: 97199010080

Status: Unutilized

Comment: 90.3 acres, heavily wooded, property includes dump area and numerous site storm drain outfalls

Land—34.16 acres

VA Medical Center 1400 Black Horse Hill Road

Coatesville Co: Chester PA 19320

Landholding Agency: VA

Property Number: 97199340001

Status: Underutilized

Comment: 34.16 acres, open field, most recent use—recreation/buffer

Suitable/To Be Excessed

Land (by State)

Georgia

Lake Sidney Lanier

Co: Forsyth GA 30130

Location: Located on Two Mile Creek adj. to State Route 369

Landholding Agency: COE

Property Number: 31199440010

Status: Unutilized

Comment: 0.25 acres, endangered plant species

Lake Sidney Lanier—3 parcels

Gainesville Co: Hall GA 30503

Location: Between Gainesville H.S. and State Route 53 By-Pass

Landholding Agency: COE

Property Number: 31199440011

Status: Unutilized

Comment: 3 parcels totalling 5.17 acres, most recent use—buffer zone, endangered plant species

Kansas

Parcel #1

Fall River Lake

Section 26

Co: Greenwood KS

Landholding Agency: COE

Property Number: 31199010065

Status: Unutilized

Comment: 126.69 acres; most recent use—recreation and leased cottage sites

Parcel No. 2, El Dorado Lake

Approx. 1 mi east of the town of El Dorado

Co: Butler KS

Landholding Agency: COE

Property Number: 31199210005

Status: Unutilized

Comment: 11 acres, part of a relocated railroad bed, rural area

Massachusetts

Buffumville Dam

Flood Control Project

Gale Road

Carlton Co: Worcester MA 01540-0155

Location: Portion of tracts B-200, B-248, B-251, B-204, B-247, B-200 and B-256

Landholding Agency: COE

Property Number: 31199010016

Status: Excess

Comment: 1.45 acres

Tennessee

Tract D-456

Cheatham Lock and Dam

Ashland Co: Cheatham TN 37015

Location: Right downstream bank of Sycamore Creek

Landholding Agency: COE

Property Number: 31199010942

Status: Excess

Comment: 8.93 acres; subject to existing easements

Texas

Corpus Christi Ship Channel

Corpus Christi Co: Neuces TX

Location: East side of Carbon Plant Road, approx. 14 miles NW of downtown Corpus Christi

Landholding Agency: COE

Property Number: 31199240001

Status: Unutilized

Comment: 4.4 acres, most recent use—farm land

Unsuitable Properties

Buildings (by State)

Alabama

Comfort Station

Clailborne Lake

Camden Co: AL 36726

Landholding Agency: COE

Property Number: 31200540001

Status: Unutilized

Reason: Extensive deterioration

Pumphouse

Dannelly Reservoir

Camden Co: AL 36726

Landholding Agency: COE

Property Number: 31200540002

Status: Unutilized

Reason: Extensive deterioration

Bldg. 7

VA Medical Center

Tuskegee Co: Macon AL 36083

Landholding Agency: VA

Property Number: 97199730001

Status: Underutilized

Reason: Secured Area

Bldg. 8

VA Medical Center

Tuskegee Co: Macon AL 36083

Landholding Agency: VA

Property Number: 97199730002

Status: Underutilized

Reason: Secured Area

Arkansas

Dwelling

Bull Shoals Lake/Dry Run Road

Oakland Co: Marion AR 72661

Landholding Agency: COE

Property Number: 31199820001

Status: Unutilized

Reason: Extensive deterioration

Helena Casting Plant

Helena Co: Phillips AR 72342

Landholding Agency: COE

Property Number: 31200220001

Status: Unutilized

Reason: Extensive deterioration

California

Soil & Materials Testing Lab

Sausalito CA 00000

Landholding Agency: COE

Property Number: 31199920002

Status: Excess

Reason: contamination

Bldgs. M03, MO14, MO17

Sandia National Lab

Livermore Co: Alameda CA 94550

Landholding Agency: Energy

Property Number: 41200220001

Status: Excess

Reason: Extensive deterioration

Bldgs. 9163, 962, 9621

Sandia National Lab

Livermore Co: Alameda CA 94551

Landholding Agency: Energy

Property Number: 41200420001

Status: Unutilized

Reason: Secured Area

Bldgs. C920, C921, C922

Sandia Natl Laboratories

Livermore Co: Alameda CA 94551

Landholding Agency: Energy

Property Number: 41200540001

Status: Unutilized

Reasons: Secured Area; Extensive deterioration

Federal Building

401 San Joaquin Street

Stockton Co: CA 95201

Landholding Agency: GSA

Property Number: 54200540010

Status: Surplus

Reason: Within 2000 ft. of flammable or explosive material

GSA Number: 9-G-CA-1599

Connecticut

Hezekiah S. Ramsdell Farm

West Thompson Lake

North Grosvenordale Co: Windham CT 06255-9801

Landholding Agency: COE

Property Number: 31199740001

Status: Unutilized

Reasons: Floodway; Extensive deterioration

Bldgs. 25 and 26

Prospect Hill Road

Windsor Co: Hartford CT 06095

Landholding Agency: Energy

Property Number: 41199440003

Status: Excess

Reason: Secured Area

9 Bldgs.

Knolls Atomic Power Lab, Windsor Site

Windsor Co: Hartford CT 06095

Landholding Agency: Energy

Property Number: 41199540004

Status: Excess

Reason: Secured Area

Bldg. 8, Windsor Site

Knolls Atomic Power Lab

Windsor Co: Hartford CT 06095

Landholding Agency: Energy

Property Number: 41199830006

Status: Unutilized

Reason: Extensive deterioration

Florida

Bldg. SF-15

Sub-Office Operations

Clewiston Co: Hendry FL 33440

Landholding Agency: COE

Property Number: 31200430003

Status: Unutilized

Reasons: Secured Area; Extensive deterioration

Bldg. SF-16

Sub-Office Operations

Clewiston Co: Hendry FL 33440

Landholding Agency: COE

Property Number: 31200430004

Status: Unutilized

Reason: Secured Area

Bldg. SF-17

Sub-Office Operations

Clewiston Co: Hendry FL 33440

Landholding Agency: COE

Property Number: 31200430005

Status: Unutilized

Reasons: Secured Area; Extensive deterioration

Georgia

Bldg. #WRSH18

West Point Lake

West Point Co: GA 31833

Landholding Agency: COE

Property Number: 31200430006

Status: Unutilized

Reason: Secured Area

Bldg. W03

West Point Lake

West Point Co: GA 31833

Landholding Agency: COE

Property Number: 31200430007

Status: Unutilized

Reasons: Within 2000 ft. of flammable or explosive material; Secured Area; Extensive deterioration

Gatehouse #W03

West Point Lake

West Point Co: GA 31833-9517

Landholding Agency: COE

Property Number: 31200510001

Status: Unutilized

Reason: Extensive deterioration

WRSH14, WRSH15, WRSH18

West Point Lake

West Point Co: GA 31833-9517

Landholding Agency: COE

Property Number: 31200510002

Status: Unutilized

Reason: Extensive deterioration

Pumphouse

Carters Lake

Oakman Co: GA 30732

Landholding Agency: COE

Property Number: 31200520002

Status: Unutilized

Reason: Extensive deterioration

Bldgs. ASBC01, ASBC02

Asbury Park

Hartwell Co: GA 30643

Landholding Agency: COE

Property Number: 31200520003

Status: Unutilized

Reason: Extensive deterioration

Vault Toilet

Lake Sidney Lanier

Buford Co: GA 30518

Landholding Agency: COE

Property Number: 31200540003

Status: Unutilized

Reason: Extensive deterioration

Idaho

Bldg. AFD0070

Albeni Falls Dam

Oldtown Co: Bonner ID 83822

Landholding Agency: COE

Property Number: 31199910001

Status: Unutilized

Reason: Extensive deterioration

Bldg. CPP-691

Idaho National Engineering Laboratory

Scoville Co: Butte ID 83415

Landholding Agency Energy

Property Number: 41199610003

Status: Unutilized

Reason: Secured Area

Bldg. TAN-636

Idaho National Engineering Laboratory

Scoville Co: Butte ID 83415

Landholding Agency: Energy

Property Number: 41199610008

Status: Unutilized

Reason: Secured Area

Bldg. TAN-670

Idaho National Engineering Laboratory

Scoville Co: Butte ID 83415

Landholding Agency: Energy

Property Number: 41199610010

Status: Unutilized

Reason: Secured Area

Bldg. TRA-669

Idaho National Engineering Laboratory

Scoville Co: Butte ID 83415

Landholding Agency: Energy

Property Number: 41199610013

Status: Unutilized

Reason: Secured Area

Bldg. TAN-637

Idaho National Engineering Laboratory

Scoville Co: Butte ID 83415

Landholding Agency: Energy

Property Number: 41199610014

Status: Unutilized

Reason: Secured Area

Bldg. TAN-651

Idaho National Engineering Laboratory

Scoville Co: Butte ID 83415

Landholding Agency: Energy

Property Number: 41199610017

Status: Unutilized

Reason: Secured Area

Bldg. TRA-673

Idaho National Engineering Laboratory

Scoville Co: Butte ID 83415

Landholding Agency: Energy

Property Number: 41199610018

Status: Unutilized

Reason: Secured Area

Bldg. PBF-620

Idaho National Engineering Laboratory

Scoville Co: Butte ID 83415

Landholding Agency: Energy

Property Number: 41199610019

Status: Unutilized

Reason: Secured Area

Bldg. PBF-619

Idaho National Engineering Laboratory

Scoville Co: Butte ID 83415

Landholding Agency: Energy

Property Number: 41199610022

Status: Unutilized

Reason: Secured Area

Bldg. PBF-625

Idaho National Engineering Laboratory

Scoville Co: Butte ID 83415-

Landholding Agency: Energy

Property Number: 41199610024

Status: Unutilized

Reason: Secured Area

Bldg. PBF-629

Idaho National Engineering Laboratory

Scoville Co: Butte ID 83415-

Landholding Agency: Energy

Property Number: 41199610025

Status: Unutilized

Reason: Secured Area

Bldg. PBF-604

Idaho National Engineering Laboratory

Scoville Co: Butte ID 83415-

Landholding Agency: Energy

Property Number: 41199610026

Status: Unutilized

Reason: Secured Area

Bldg. TRA-641

Idaho National Engineering Laboratory

Scoville Co: Butte ID 83415-

Landholding Agency: Energy

Property Number: 41199610034

Status: Unutilized

Reason: Secured Area

Bldg. CF-606

Idaho National Engineering Laboratory

Scoville Co: Butte ID 83415-

Landholding Agency: Energy

Property Number: 41199610037

Status: Unutilized

Reason: Secured Area

8 Bldgs.

Idaho Natl Engineering & Environmental Lab

Test Reactor North

Scovile Co: Butte ID 83415-

Location: TRA 643, 644, 655, 660, 704-706, 755

Landholding Agency: Energy

Property Number: 41199830003

Status: Excess

Reasons: Within 2000 ft. of flammable or explosive material; Secured Area

Bldg. CPDTB1

Idaho Natl Eng & Env Lab

Scoville Co: Butte ID 83415-

Landholding Agency: Energy

Property Number: 41200410009

Status: Excess

Reason: Secured Area

Bldg. CPP620A

Idaho Natl Eng & Env Lab

Scoville Co: Butte ID 83415-

Landholding Agency: Energy

Property Number: 41200410012

Status: Excess

Reason: Secured Area

Bldg. CPP637/620

Idaho Natl Eng & Env Lab

Scoville Co: Butte ID 83415-

Landholding Agency: Energy

Property Number: 41200410013

Status: Excess

Reason: Secured Area

Bldgs. CPP638, CPP642

Idaho Natl Eng & Env Lab

Scoville Co: Butte ID 83415-

Landholding Agency: Energy

Property Number: 41200410014

Status: Excess

Reason: Secured Area

Bldg. CPP743

Idaho Natl Eng & Env lab

Scoville Co: Butte ID 83415

Landholding Agency: Energy

Property Number: 41200410020

Status: Excess

Reason: Secured Area

Bldgs. CPP1647, 1653

Idaho Natl Eng & Env Lab

Scoville Co: Butte ID 83415-

Landholding Agency: Energy

Property Number: 41200410022

Status: Excess

Reason: Secured Area

Bldg. CPP1677

Idaho Natl Eng & Env Lab

Scoville Co: Butte ID 83415-

Landholding Agency: Energy

Property Number: 41200410023

Status: Excess

Reason: Secured Area

Bldgs. TAN 640, TAN 641

Idaho Natl Eng & Env Lab

Scoville Co: Butte ID 83415-

Landholding Agency: Energy

Property Number: 41200410024

Status: Excess

Reason: Secured Area

Bldgs. TAN 645, TAN 646

Idaho Natl Eng & Env Lab

Scoville Co: Butte ID 83415-

Landholding Agency: Energy

Property Number: 41200410026

Status: Excess

Reason: Secured Area

Bldg. TAN 731

Idaho Natl Eng & Env Lab

Scoville Co: Butte ID 83415-

Landholding Agency: Energy

Property Number: 41200410028

Status: Excess

Reason: Secured Area

Bldg. TAN 624

Idaho Natl Eng & Env Lab

Scoville Co: Butte ID 83415-

Landholding Agency: Energy

Property Number: 41200410031

Status: Excess

Reason: Secured Area

Bldgs. TAN 630, TAN 633

Idaho Natl Eng & Env Lab

Scoville Co: Butte ID 83415-

Landholding Agency: Energy

Property Number: 41200410032

Status: Excess

Reason: Secured Area

Bldgs. TAN 649, TAN 650

Idaho Natl Eng & Env Lab

Scoville Co: Butte ID 83415-

Landholding Agency: Energy

Property Number: 41200410033

Status: Excess

Reason: Secured Area

Bldg. 694

Idaho Natl Eng & Env Lab

Scoville Co: Butte ID 83415-

Landholding Agency: Energy

Property Number: 41200410034

Status: Excess

Reason: Secured Area

Bldg. TAN 719

Idaho Natl Eng & Env Lab

Scoville Co: Butte ID 83415-

Landholding Agency: Energy

Property Number: 41200410035

Status: Excess

Reason: Secured Area

Bldgs. TAN 725, TAN 726

Idaho Natl Eng & Env Lab

Scoville Co: Butte ID 83415-

Landholding Agency: Energy

Property Number: 41200410036

Status: Excess

Reason: Secured Area

Bldg. TRA 647

Idaho Natl Eng & Env Lab

Scoville Co: Butte ID 83415-

Landholding Agency: Energy

Property Number: 41200420006

Status: Excess

Reason: Secured Area

Bldgs. TRA 651, TRA 656

Idaho Natl Eng & Env Lab

Scoville Co: Butte ID 83415-

Landholding Agency: Energy

Property Number: 41200420007

Status: Excess

Reason: Secured Area

Bldg. TRA 663

Idaho Natl Eng & Env Lab

Scoville Co: Butte ID 83415-

Landholding Agency: Energy

Property Number: 41200420008

Status: Excess

Reason: Secured Area

Bldg. TRA 779

Idaho Natl Eng & Env Lab

Scoville Co: Butte ID 83415-

Landholding Agency: Energy

Property Number: 41200420009

Status: Excess

Reason: Secured Area

Bldg. PBF 731

Idaho Natl Eng & Env Laboratory

Scovile Co: Butte ID 83415-

Landholding Agency: Energy

Property Number: 41200420023

Status: Excess

Reason: Secured Area

Bldgs. CPP1604-CPP1608

Idaho National Eng & Env Lab

Scoville Co: Butte ID 83415-

Landholding Agency: Energy

Property Number: 41200430071

Status: Excess

Reason: Secured Area

Bldgs. CPP1617-CPP1619

Idaho National Eng & Env Lab

Scoville Co: Butte ID 83415-

Landholding Agency: Energy

Property Number: 41200430072

Status: Excess

Reason: Secured Area

6 Bldgs.

Idaho National Eng & Env Lab

Scoville Co: Butte ID 83415-

Location: CPP1631, CPP1634, CPP1635, CPP1636, CPP1637, CPP1638

Landholding Agency: Energy

Property Number: 41200430073

Status: Excess

Reason: Secured Area

5 Bldgs.

Idaho National Eng & Env Lab

Scoville Co: Butte ID 83415-

Location: CPP1642, CPP1643, CPP1644, CPP1646, CPP1649

Landholding Agency: Energy

Property Number: 41200430074

Status: Excess

Reason: Secured Area

3 Bldgs.

Idaho National Eng & Env Lab

Scoville Co: Butte ID 83415-

Location: CPP1650, CPP1651, CPP1656

Landholding Agency: Energy

Property Number: 41200430075

Status: Excess

Reason: Secured Area

5 Bldgs.

Idaho National Eng & Env Lab

Scoville Co: Butte ID 83415-

Location: CPP1662, CPP1663, CPP1671, CPP1673, CPP1674

Landholding Agency: Energy

Property Number: 41200430076

Status: Excess

Reason: Secured Area

5 Bldgs.

Idaho National Eng & Env Lab

Scoville Co: Butte ID 83415-

Location: CPP1678, CPP1682, CPP1683, CPP1684, CPP1686

Landholding Agency: Energy

Property Number: 41200430077

Status: Excess

Reason: Secured Area

5 Bldgs.

Idaho National Eng & Env Lab

Scoville Co: Butte ID 83415-

Location: CPP1713, CPP1749, CPP1750, CPP1767, CPP1769

Landholding Agency: Energy

Property Number: 41200430078

Status: Excess

Reason: Secured Area

5 Bldgs.

Idaho National Eng & Env Lab

Scoville Co: Butte ID 83415-

Location: CPP1770, CPP1771, CPP1772, CPP1774, CPP1776

Landholding Agency: Energy

Property Number: 41200430079

Status: Excess

Reason: Secured Area

4 Bldgs.

Idaho National Eng & Env Lab

Scoville Co: Butte ID 83415-

Location: CPP1778, CPP1779, CPP1780, CPP1784

Landholding Agency: Energy

Property Number: 41200430080

Status: Excess

Reason: Secured Area

4 Bldgs.

Idaho National Eng & Env Lab

Scoville Co: Butte ID 83415-

Location: CPP1789, CPP1790, CPP1792, CPP1794

Landholding Agency: Energy

Property Number: 41200430081

Status: Excess

Reason: Secured Area

Bldgs. CPP2701, CPP2706

Idaho National Eng & Env Lab

Scoville Co: Butte ID 83415-

Landholding Agency: Energy

Property Number: 41200430082

Status: Excess

Reason: Secured Area

3 Bldgs.

Idaho National Eng & Env Lab

Scoville Co: Butte ID 83415-

Location: TRA603, TRA604, TRA610

Landholding Agency: Energy

Property Number: 41200430089

Status: Excess

Reason: Secured Area

Bldg. TAN611

Idaho National Eng & Env Lab

Scoville Co: Butte ID 83415-

Landholding Agency: Energy

Property Number: 41200430090

Status: Excess

Reason: Secured Area

5 Bldgs.

Idaho National Eng & Env Lab

Scoville Co: Butte ID 83415-

Location: TRA626, TRA635, TRA642, TRA648, TRA654

Landholding Agency: Energy

Property Number: 41200430091

Status: Excess

Reason: Secured Area

Bldg. TAN655

Idaho National Eng & Env Lab

Scoville Co: Butte ID 83415-

Landholding Agency: Energy

Property Number: 41200430092

Status: Excess

Reason: Secured Area

3 Bldgs.

Idaho National Eng & Env Lab

Scoville Co: Butte ID 83415-

Location: TRA657, TRA661, TRA668

Landholding Agency: Energy

Property Number: 41200430093

Status: Excess

Reason: Secured Area

Bldg. TAN711

Idaho National Eng & Env Lab

Scoville Co: Butte ID 83415-

Landholding Agency: Energy

Property Number: 41200430094

Status: Excess

Reason: Secured Area

6 Bldgs.

Idaho National Eng & Env Lab

Scoville Co: Butte ID 83415-

Location: CPP602-CPP606, CPP609

Landholding Agency: Energy

Property Number: 41200430095

Status: Excess

Reason: Secured Area

5 Bldgs.

Idaho National Eng & Env Lab

Scoville Co: Butte ID 83415-

Location: CPP611-CPP614, CPP616

Landholding Agency: Energy

Property Number: 41200430096

Status: Excess

Reason: Secured Area

4 Bldgs.

Idaho National Eng & Env Lab

Scoville Co: Butte ID 83415-

Location: CPP621, CPP626, CPP630, CPP639

Landholding Agency: Energy

Property Number: 41200430097

Status: Excess

Reason: Secured Area

4 Bldgs.

Idaho National Eng & Env Lab

Scoville Co: Butte ID 83415-

Location: CPP641, CPP644, CPP645, CPP649

Landholding Agency: Energy

Property Number: 41200430098

Status: Excess

Reason: Secured Area

Bldgs. CPP651-CPP655

Idaho National Eng & Env Lab

Scoville Co: Butte ID 83415-

Landholding Agency: Energy

Property Number: 41200430099

Status: Excess

Reason: Secured Area

Bldgs. CPP659-CPP663

Idaho National Eng & Env Lab

Scoville Co: Butte ID 83415-

Landholding Agency: Energy

Property Number: 41200440001

Status: Excess

Reason: Secured Area

Bldgs. CPP666, CPP668

Idaho Naitonal Eng & Env Lab

Scoville Co: Butte ID 83415-

Landholding Agency: Energy

Property Number: 41200440002

Status: Excess

Reason: Secured Area

3 Bldgs.

Idaho National Eng & Env Lab

Scoville Co: Butte ID 83415-

Location: CPP674, CPP675, CPP679

Landholding Agency: Energy

Property Number: 41200440003

Status: Excess

Reason: Secured Area

1 Bldg.

Idaho National Eng & Env Lab

Scoville Co: Butte ID 83415-

Location: CPP684

Landholding Agency: Energy

Property Number: 41200440004

Status: Excess

Reason: Secured Area

5 Bldgs.

Idaho National Eng & Env Lab

Scoville Co: Butte ID 83415-

Location: CPP692, CPP694, CPP697-CPP699

Landholding Agency: Energy

Property Number: 41200440005

Status: Excess

Reason: Secured Area

3 Bldgs.

Idaho National Eng & Env Lab

Scoville Co: Butte ID 83415-

Location: CPP701, CPP701A, CPP708

Landholding Agency: Energy

Property Number: 41200440006

Status: Excess

Reason: Secured Area

Bldgs. 711, 719A

Idaho National Eng & Env Lab

Scoville Co: Butte ID 83415-

Landholding Agency: Energy

Property Number: 41200440007

Status: Excess

Reason: Secured Area

4 Bldgs.

Idaho National Eng & Env Lab

Scoville Co: Butte ID 83415-

Location: CPP724-CPP726, CPP728

Landholding Agency: Energy

Property Number: 41200440008

Status: Excess

Reason: Secured Area

Bldg. CPP729/741

Idaho National Eng & Env Lab

Scoville Co: Butte ID 83415-

Landholding Agency: Energy

Property Number: 41200440012

Status: Excess

Reason: Secured Area

Bldgs. CPP733, CPP736

Idaho National Eng & Env Lab

Scoville Co: Butte ID 83415-

Landholding Agency: Energy

Property Number: 41200440013

Status: Excess

Reason: Secured Area

Bldgs. CPP740, CPP742

Idaho National Eng & Env Lab

Scoville Co: Butte ID 83415-

Landholding Agency Energy

Property Number: 41200440014

Status: Excess

Reason: Secured Area

Bldgs. CPP746, CPP748

Idaho National Eng & Env Lab

Scoville Co: Butte ID 83415-

Landholding Agency: Energy

Property Number: 41200440015

Status: Excess

Reason: Secured Area

3 Bldgs.

Idaho National Eng & Env Lab

CPP750, CPP751, CPP752

Scoville Co: Butte ID 83415-

Landholding Agency: Energy

Property Number: 41200440016

Status: Excess

Reason: Secured Area

3 Bldgs.

Idaho National Eng & Env Lab

CPP753, CPP753A, CPP754

Scoville Co: Butte ID 83415-

Landholding Agency: Energy

Property Number: 41200440017

Status: Excess

Reason: Secured Area

Bldgs. CPP760, CPP763

Idaho National Eng & Env Lab

Scoville Co: Butte ID 83415-

Landholding Agency: Energy

Property Number: 41200440018

Status: Excess

Reason: Secured Area

Bldgs. CPP764, CPP765

Idaho National Eng & Env Lab

Scoville Co: Butte ID 83415-

Landholding Agency: Energy

Property Number: 41200440019

Status: Excess

Reason: Secured Area

Bldgs. CPP767, CPP768

Idaho National Eng & Env Lab

Scoville Co: Butte ID 83415-

Landholding Agency: Energy

Property Number: 41200440020

Status: Excess

Reason: Secured Area

Bldgs. CPP791, CPP795

Idaho National Eng & Env Lab

Scoville Co: Butte ID 83415-

Landholding Agency: Energy

Property Number: 41200440021

Status: Excess

Reason: Secured Area

3 Bldgs.

Idaho National Eng & Env Lab

CPP796, CPP797, CPP799

Scoville Co: Butte ID 83415-

Landholding Agency: Energy

Property Number: 41200440022

Status: Excess

Reason: Secured Area

Bldgs. CPP701B, CPP719

Idaho National Eng & Env Lab

Scoville Co: Butte ID 83415-

Landholding Agency: Energy

Property Number: 41200440023

Status: Excess

Reason: Secured Area

Bldgs. CPP720A, CPP720B

Idaho National Eng & Env Lab

Scoville Co: Butte ID 83415-

Landholding Agency: Energy

Property Number: 41200440024

Status: Excess

Reason: Secured Area

Bldg. CPP1781

Idaho National Eng & Env Lab

Scoville Co: Butte ID 83415-

Landholding Agency: Energy

Property Number: 41200440025

Status: Excess

Reason: Secured Area

2 Bldgs.

Idaho National Eng & Env Lab

CPP0000VES-UTI-111, VES-UTI-112

Scoville Co: Butte ID 83415-

Landholding Agency: Energy

Property Number: 41200440026

Status: Excess

Reason: Secured Area

3 Bldgs.

Idaho National Eng & Env Lab

TAN607, TAN666, TAN668

Scoville Co: Butte ID 83415-

Landholding Agency: Energy

Property Number: 41200440027

Status: Excess

Reason: Secured Area

Bldgs. TAN704, TAN733

Idaho National Eng & Env Lab

Scoville Co: Butte ID 83415-

Landholding Agency: Energy

Property Number: 41200440028

Status: Excess

Reason: Secured Area

Bldgs. TAN1611, TAN1614

Idaho National Eng & Env Lab

Scoville Co: Butte ID 83415-

Landholding Agency: Energy

Property Number: 41200440029

Status: Excess

Reason: Secured Area

Bldgs. CF604, CF680

Idaho Natl Eng & Env Lab

Scoville Co: Butte ID 83415-

Landholding Agency: Energy

Property Number: 41200440034

Status: Excess

Reason: Secured Area

Bldg. TRA 618

Idaho National Laboratory

Scoville Co: Butte ID 83415-

Landholding Agency: Energy

Property Number: 41200510005

Status: Excess

Reason: Extensive deterioration

Bldg. CF633

Idaho Natl Laboratory

Scoville Co: Butte ID 83415-

Landholding Agency: Energy

Property Number: 41200520005

Status: Excess

Reason: Extensive deterioration

Bldg. B16 607

Idaho National Laboratory

Scoville Co: Butte ID 83415-

Landholding Agency: Energy

Property Number: 41200530001

Status: Excess

Reason: Secured Area

Bldg. CF660

Idaho National Laboratory

Scoville Co: Butte ID 83415-

Landholding Agency: Energy

Property Number: 41200530002

Status: Excess

Reason: Secured Area

Indiana

Comfort Station

Salamonie Lake

Lagro Co: IN 46941-

Landholding Agency: COE

Property Number: 31200540004

Status: Unutilized

Reason: Extensive deterioration

Sewage Treatment Plant

Mississinewa Lake

Peru Co: IN 46970-

Landholding Agency: COE

Property Number: 31200540005

Status: Unutilized

Reason: Extensive deterioration

Bldg. 21, VA Medical Center

East 38th Street

Marion Co: Grant IN 46952-

Landholding Agency: VA

Property Number: 97199230001

Status: Excess

Reason: Extensive deterioration

Bldg. 22, VA Medical Center

East 38th Street

Marion Co: Grant IN 46952-

Landholding Agency: VA

Property Number: 97199230002

Status: Excess

Reason: Extensive deterioration

Bldg. 62, VA Medical Center

East 38th Street

Marion Co: Grant IN 46952-

Landholding Agency: VA

Property Number: 97199230003

Status: Excess

Reason: Extensive deterioration

Iowa

Treatment Plant

South Fork Park

Mystic Co: Appanoose IA 52574-

Landholding Agency: COE

Property Number: 31200220002

Status: Excess

Reason: Extensive deterioration

Storage Bldg.

Rathbun Project

Moravia Co: Appanoose IA 52571-

Landholding Agency: COE

Property Number: 31200330001

Status: Excess

Reason: Extensive deterioration

Bldg.

Island View Park

Rathbun Project

Centerville Co: Appanoose IA 52544-

Landholding Agency: COE

Property Number: 31200330002

Status: Excess

Reason: Extensive deterioration.

Tract 137

Camp Dodge

Johnston Co: Polk IA 50131-1902

Landholding Agency: COE

Property Number: 31200410001

Status: Excess

Reason: Extensive deterioration

Rathbun 29369, 29368

Island View Park

Centerville Co: Appanoose IA 52544-

Landholding Agency: COE

Property Number: 31200510003

Status: Excess

Reason: Extensive deterioration

RTHBUN-79326

Buck Creek Park

Centerville Co: Appanoose IA 52544-

Landholding Agency: COE

Property Number: 31200520004

Status: Excess

Reason: Extensive deterioration

Bldg.

Buck Creek Park

Centerville Co: Appanoose IA 52544-

Landholding Agency: COE

Property Number: 31200610001

Status: Excess

Reason: Extensive deterioration

Kansas

No. 01017

Kanopolis Project

Marquette Co: Ellsworth KS 67456-

Landholding Agency: COE

Property Number: 31200210001

Status: Unutilized

Reason: Extensive deterioration

No. 01020

Kanopolis Project

Marquette Co: Ellsworth KS 67456-

Landholding Agency: COE

Property Number: 31200210002

Status: Unutilized

Reason: Extensive deterioration

No. 61001

Kanopolis Project

Marquette Co: Ellsworth KS 67456-

Landholding Agency: COE

Property Number: 31200210003

Status: Unutilized

Reason: Extensive deterioration

Bldg. #1

Kanopolis Project

Marquette Co: Ellsworth KS 67456-

Landholding Agency: COE

Property Number: 31200220003

Status: Excess

Reason: Extensive deterioration

Bldg. #2

Kanopolis Project

Marquette Co: Ellsworth KS 67456-

Landholding Agency: COE

Property Number: 31200220004

Status: Excess

Reason: Extensive deterioration

Bldg. #4

Kanopolis Project

Marquette Co: Ellsworth KS 67456-

Landholding Agency: COE

Property Number: 31200220005

Status: Excess

Reason: Extensive deterioration

Comfort Station

Clinton Lake Project

Lawrence Co: Douglas KS 66049-

Landholding Agency: COE

Property Number: 31200220006

Status: Excess

Reason: Extensive deterioration

Privie

Perry Lake

Perry Co: Jefferson KS 66074-

Landholding Agency: COE

Property Number: 31200310004

Status: Unutilized

Reason: Extensive deterioration

Shower

Perry Lake

Perry Co: Jefferson KS 66073-

Landholding Agency: COE

Property Number: 31200310005

Status: Unutilized

Reason: Extensive deterioration

Tool Shed

Perry Lake

Perry Co: Jefferson KS 66073-

Landholding Agency: COE

Property Number: 31200310006

Status: Unutilized

Reason: Extensive deterioration

Bldg. M37

Minooka Park

Sylvan Grove Co: Russell KS 67481-

Landholding Agency: COE

Property Number: 31200320002

Status: Excess

Reason: Extensive deterioration

Bldg. M38

Minooka Park

Sylvan Grove Co: Russell KS 67481-

Landholding Agency: COE

Property Number: 31200320003

Status: Excess

Reason: Extensive deterioration

Bldg. L19

Lucas Park

Sylvan Grove Co: Russell KS 67481-

Landholding Agency: COE

Property Number: 31200320004

Status: Unutilized

Reason: Extensive deterioration

2 Bldgs.

Tuttle Creek Lake

Near Shelters #3 & #4

Riley KS 66502-

Landholding Agency: COE

Property Number: 31200330003

Status: Excess

Reason: Extensive deterioration

6 Bldgs.

Cottonwood Point/Hillsboro Cove

Marion Co: Coffey KS 66861-

Landholding Agency: COE

Property Number: 31200340001

Status: Excess

Reason: Extensive deterioration

20 Bldgs.

Riverside

Burlington Co: Coffey KS 66839-8911

Landholding Agency: COE

Property Number: 31200340002

Status: Excess

Reason: Extensive deterioration

2 Bldgs.

Canning Creek/Richey Cove

Council Grove Co: Morris KS 66846-9322

Landholding Agency: COE

Property Number: 31200340003

Status: Excess

Reason: Extensive deterioration

6 Bldgs.

Santa Fe Trail/Outlet Channel

Council Grove Co: Morris KS 66846-

Landholding Agency: COE

Property Number: 31200340004

Status: Excess

Reason: Extensive deterioration

Residence

Melvern Lake Project

Melvern Co: Osage KS 66510-

Landholding Agency: COE

Property Number: 31200340005

Status: Excess

Reason: Extensive deterioration

2 Bldgs.

Management Park

Vassar KS 66543-

Landholding Agency: COE

Property Number: 31200340006

Status: Excess

Reason: Extensive deterioration

Bldg.

Hickory Campground

Lawrence KS 66049-

Landholding Agency: COE

Property Number: 31200340007

Status: Excess

Reason: Extensive deterioration

Bldg.

Rockhaven Park Area

Lawrence KS 66049-

Landholding Agency: COE

Property Number: 31200340008

Status: Excess

Reason: Extensive deterioration

Bldg.

Overlook Park Area

Lawrence KS 66049-

Landholding Agency: COE

Property Number: 31200340009

Status: Excess

Reason: Extensive deterioration

Bldg.

Walnut Campground

Lawrence KS 66049-

Landholding Agency: COE

Property Number: 31200340010

Status: Excess

Reason: Extensive deterioration

Bldg.

Cedar Ridge Campground

Lawrence KS 66049-

Landholding Agency: COE

Property Number: 31200340011

Status: Excess

Reason: Extensive deterioration

Bldg.

Woodridge Park Area

Lawrence KS 66049-

Landholding Agency: COE

Property Number: 31200340012

Status: Excess

Reason: Extensive deterioration

8 Bldgs.

Tuttle Cove Park

Manhattan Co: Riley KS 66502-

Landholding Agency: COE

Property Number: 31200410002

Status: Unutilized

Reason: Extensive deterioration

2 Bldgs.

Old Garrison Campground

Pottawatomie KS -

Landholding Agency: COE

Property Number: 31200410003

Status: Unutilized

Reason: Extensive deterioration

2 Bldgs.

School Creek ORV Area

Junction City KS 66441-

Landholding Agency: COE

Property Number: 31200410004

Status: Excess

Reason: Extensive deterioration

Bldg.

Slough Creek Park

Perry Co: Jefferson KS 66073-

Landholding Agency: COE

Property Number: 31200410005

Status: Excess

Reason: Extensive deterioration

Bldg.

Spillway Boat Ramp

Sylvan Grove Co: KS 67481-

Landholding Agency: COE

Property Number: 31200430008

Status: Excess

Reason: Extensive deterioration

Bldg.

Minooka Park Area

Sylvan Grove Co: KS 67481-

Landholding Agency: COE

Property Number: 31200430009

Status: Excess

Reason: Extensive deterioration

Bldg.

Lucas Park Area

Sylvan Grove Co: KS 67481-

Landholding Agency: COE

Property Number: 31200430010

Status: Excess

Reason: Extensive deterioration

Bldg.

Sylvan Park Area

Sylvan Grove Co: KS 67481-

Landholding Agency: COE

Property Number: 31200430011

Status: Excess

Reason: Extensive deterioration

Bldg.

North Outlet Area

Junction City Co: KS 66441-

Landholding Agency: COE

Property Number: 31200430012

Status: Excess

Reason: Extensive deterioration

3 Vault Toilets

West Rolling Hills

Milford Lake

Junction City Co: KS 66441-

Landholding Agency: COE

Property Number: 31200440003

Status: Excess

Reason: Extensive deterioration

Vault Toilet

East Rolling Hills

Milford Lake

Junction City Co: KS 66441-

Landholding Agency: COE

Property Number: 31200440004

Status: Excess

Reason: Extensive deterioration

Bldgs. 25002, 35012

Lucas Park

Sylvan Grove Co: KS 67481-

Landholding Agency: COE

Property Number: 31200510004

Status: Excess

Reason: Extensive deterioration

Bldgs. 25006, 25038

Lucas Group Camp

Sylvan Grove Co: KS 67481-

Landholding Agency: COE

Property Number: 31200510005

Status: Excess

Reason: Extensive deterioration

Bldgs. L37, L38

Lucas Park

Sylvan Grove Co: KS 67481-

Landholding Agency: COE

Property Number: 31200520005

Status: Excess

Reason: Extensive deterioration

2 Bldgs.

Mann's Cove PUA

Fall River Co: Greenwood KS 67047-

Landholding Agency: COE

Property Number: 31200530002

Status: Excess

Reason: Extensive deterioration

16 Bldgs.

Cottonwood Point

Marion Co: KS -

Landholding Agency: COE

Property Number: 31200530003

Status: Excess

Reason: Extensive deterioration

3 Bldgs.

Damsite PUA

Fall River Co: Greenwood KS 67047-

Landholding Agency: COE

Property Number: 31200530004

Status: Excess

Reason: Extensive deterioration

2 Bldgs.

Damsite PUA

Fall River Co: Greenwood KS 67047-

Landholding Agency: COE

Property Number: 31200530005

Status: Excess

Reason: Extensive deterioration

Bldgs. L05, L06

Lucas Park Overlook

Sylvan Grove Co: KS 67481-

Landholding Agency: COE

Property Number: 31200530006

Status: Excess

Reason: Extensive deterioration

Bldg. 29442

Admin. Area

Perry Co: KS 66073-

Landholding Agency: COE

Property Number: 31200610002

Status: Excess

Reason: Extensive deterioration

Bldgs. 29475, 29476

Thompsonville Park

Perry Co: KS 66073-

Landholding Agency: COE

Property Number: 31200610003

Status: Excess

Reason: Extensive deterioration

Bldg. 39661

Old Town Park

Perry Co: KS 66073-

Landholding Agency: COE

Property Number: 31200610004

Status: Excess

Reason: Extensive deterioration

Bldg. 29455

Rock Creek Park

Perry Co: KS 66073-

Landholding Agency: COE

Property Number: 31200610005

Status: Excess

Reason: Extensive deterioration

Bldg. 29415

Longview Park

Perry Co: KS 66073-

Landholding Agency: COE

Property Number: 31200610006

Status: Excess

Reason: Extensive deterioration

Bldg. 29464

Slough Creek Park

Perry Co: KS 66073-

Landholding Agency: COE

Property Number: 31200610007

Status: Excess

Reason: Extensive deterioration

Kentucky

Spring House

Kentucky River Lock and Dam No. 1

Highway 320

Carrollton Co: Carroll KY 41008-

Landholding Agency: COE

Property Number: 21199040416

Status: Unutilized

Reason: Spring House

6-Room Dwelling

Green River Lock and Dam No. 3

Rochester Co: Butler KY 42273-

Location: Off State Hwy 369, which runs off of Western Ky. Parkway

Landholding Agency: COE

Property Number: 31199120010

Status: Unutilized

Reason: Floodway

2-Car Garage

Green River Lock and Dam No. 3

Rochester Co: Butler KY 42273-

Location: Off State Hwy 369, which runs off of Western Ky. Parkway

Landholding Agency: COE

Property Number: 31199120011

Status: Unutilized

Reason: Floodway

Office and Warehouse

Green River Lock and Dam No. 3

Rochester Co: Butler KY 42273-

Location: Off State Hwy 369, which runs off of Western Ky. Parkway

Landholding Agency: COE

Property Number: 31199120012

Status: Unutilized

Reason: Floodway

2 Pit Toilets

Green River Lock and Dam No. 3

Rochester Co: Butler KY 42273-

Landholding Agency: COE

Property Number: 31199120013

Status: Unutilized

Reason: Floodway

Tract 1379

Barkley Lake & Dam

Eddyville Co: Lyon KY 42038-

Landholding Agency: COE

Property Number: 31200420001

Status: Unutilized

Reason: Landlocked

Tract 4300

Barkley Lake & Dam

Cadiz Co: Trigg KY 42211-

Landholding Agency: COE

Property Number: 31200420002

Status: Unutilized

Reason: Floodway

Tracts 317, 318, 319

Barkley Lake & Dam

Grand Rivers Co: Lyon KY 42045-

Landholding Agency: COE

Property Number: 31200420003

Status: Unutilized

Reason: Floodway

Comfort Station

Holmes Bend Access

Green River Lake

Adair Co: KY -

Landholding Agency: COE

Property Number: 31200440005

Status: Excess

Reason: Extensive deterioration

Steel Structure

Mcalpine Locks & Dam

Louisville Co: KY 40212-

Landholding Agency: COE

Property Number: 31200440006

Status: Excess

Reasons: Within 2000 ft. of flammable or explosive material Floodway

Comfort Station

Mcalpine Locks & Dam

Louisville Co: KY 40212-

Landholding Agency: COE

Property Number: 31200440007

Status: Excess

Reasons: Within 2000 ft. of flammable or explosive material Floodway

Shelter

Mcalpine Locks & Dam

Louisville Co: KY 40212-

Landholding Agency: COE

Property Number: 31200440008

Status: Excess

Reasons: Within 2000 ft. of flammable or explosive material Floodway

Parking Lot

Mcalpine Locks & Dam

Louisville Co: KY 40212-

Landholding Agency: COE

Property Number: 31200440009

Status: Excess

Reasons: Within 2000 ft. of flammable or explosive material Floodway

Sewage Treatment Plant

Holmes Bend Recreation

Campbellsville Co: KY 42718-9805

Landholding Agency: COE

Property Number: 31200510006

Status: Unutilized

Reason: Extensive deterioration

Loading Docks

Nolin Lake

Bee Spring Co: KY 42007-

Landholding Agency: COE

Property Number: 31200540006

Status: Unutilized

Reason: Extensive deterioration

Massachusetts

Westview Street Wells

Lexington MA 02173-

Landholding Agency: VA

Property Number: 97199920001

Status: Unutilized

Reason: Extensive deterioration

Michigan

Admin. Bldg.

Station Saginaw River

Essexville Co: Bay MI 48732-

Landholding Agency: Coast Guard

Property Number: 88200510001

Status: Unutilized

Reasons: Secured Area Extensive deterioration

Mississippi

Bldg. 6, Boiler Plant

Biloxi VA Medical Center

Gulfport Co: Harrison MS 39531-

Landholding Agency: VA

Property Number: 97199410001

Status: Unutilized

Reason: Floodway

Bldg. 67

Biloxi VA Medical Center

Gulfport Co: Harrison MS 39531-

Landholding Agency: VA

Property Number: 97199410008

Status: Unutilized

Reason: Extensive deterioration

Bldg. 68

Biloxi VA Medical Center

Gulfport Co: Harrison MS 39531-

Landholding Agency: VA

Property Number: 97199410009

Status: Unutilized

Reason: Extensive deterioration

Missouri

Rec Office

Harry S. Truman Dam & Reservoir

Osceola Co: St. Clair MO 64776-

Landholding Agency: COE

Property Number: 31200110001

Status: Unutilized

Reason: Extensive deterioration

Privy/Nemo Park

Pomme de Terre Lake

Hermitage MO 65668-

Landholding Agency: COE

Property Number: 31200120001

Status: Excess

Reason: Extensive deterioration

Privy No. 1/Bolivar Park

Pomme de Terre Lake

Hermitage MO 65668-

Landholding Agency: COE

Property Number: 31200120002

Status: Excess

Reason: Extensive deterioration

Privy No. 2/Bolivar Park

Pomme de Terre Lake

Hermitage MO 65668-

Landholding Agency: COE

Property Number: 31200120003

Status: Excess

Reason: Extensive deterioration

#07004, 60006, 60007

Crabtree Cove/Stockton Area

Stockton MO 65785-

Landholding Agency: COE

Property Number: 31200220007

Status: Excess

Reason: Extensive deterioration

Bldg.

Old Mill Park Area

Stockton MO 65785-

Landholding Agency: COE

Property Number: 31200310007

Status: Excess

Reason: Extensive deterioration

Stockton Lake Proj. Ofc.

Stockton Co: Cedar MO 65785-

Landholding Agency: COE

Property Number: 31200330004

Status: Unutilized

Reason: Extensive deterioration

House

Tract 1105

Thurnau Mitigation Site

Craig Co: Holt MO 64437-

Landholding Agency: COE

Property Number: 31200420005

Status: Unutilized

Reason: Extensive deterioration

30x36 Barn

Tract 1105

Thurnau Mitigation Site

Craig Co: Holt MO 64437-

Landholding Agency: COE

Property Number: 31200420006

Status: Unutilized

Reason: Extensive deterioration

30x26 Barn

Tract 1105

Thurnau Mitigation Site

Craig Co: Holt MO 64437-

Landholding Agency: COE

Property Number: 31200420007

Status: Unutilized

Reason: Extensive deterioration

30x10 Shed

Tract 1105

Thurnau Mitigation Site

Craig Co: Holt MO 64437-

Landholding Agency: COE

Property Number: 31200420008

Status: Unutilized

Reason: Extensive deterioration

30x26 Shed

Tract 1105

Thurnau Mitigation Site

Craig Co: Holt MO 64437-

Landholding Agency: COE

Property Number: 31200420009

Status: Unutilized

Reason: Extensive deterioration

9x9 Shed

Tract 1105

Thurnau Mitigation Site

Craig Co: Holt MO 64437-

Landholding Agency: COE

Property Number: 31200420010

Status: Unutilized

Reason: Extensive deterioration

Tract 1111

Thurnau Mitigation Site

Craig Co: Holt MO 64437-

Landholding Agency: COE

Property Number: 31200420011

Status: Excess

Reason: Extensive deterioration

Shower

Pomme de Terre Lake

Hermitage Co: Polk MO 65668-

Landholding Agency: COE

Property Number: 31200420012

Status: Unutilized

Reason: Extensive deterioration

11 Bldgs.

Warsaw Co: MO 65355-

Location: Fairfield, Tally Bend, Cooper Creek, Shawnee Bend

Landholding Agency: COE

Property Number: 31200430013

Status: Excess

Reason: Extensive deterioration

2 Storage Bldgs.

District Service Base

St. Louis Co: MO-

Landholding Agency: COE

Property Number: 31200430014

Status: Excess

Reason: Extensive deterioration

Privy

Pomme de Terre Lake

Wheatland Co: Hickory MO-

Landholding Agency: COE

Property Number: 31200440010

Status: Underutilized

Reason: Floodway

Vault Toilet

Ruark Bluff

Stockton Co: MO-

Landholding Agency: COE

Property Number: 31200440011

Status: Excess

Reason: Extensive deterioration

Comfort Station

Overlook Area

Stockton Co: MO-

Landholding Agency: COE

Property Number: 31200440012

Status: Excess

Reason: Extensive deterioration

Maintenance Building

Missouri River Area

Napoleon Co: Lafayette MO 64074-

Landholding Agency: COE

Property Number: 31200510007

Status: Excess

Reason: Floodway

Bldg. 34001

Orleans Trail Park

Stockton Co: MO 65785-

Landholding Agency: COE

Property Number: 31200510008

Status: Excess

Reason: Extensive deterioration

Bldgs. 34016, 34017

Orleans Trail Park

Stockton Co: MO 65785-

Landholding Agency: COE

Property Number: 31200510009

Status: Excess

Reason: Extensive deterioration

Bldg.

Pomme de Terre Lake

Hermitage Co: MO 65668-

Landholding Agency: COE

Property Number: 31200610008

Status: Unutilized

Reason: Extensive deterioration

Bldg. 3

VA Medical Center

Jefferson Barracks Division

St. Louis MO 63125-

Landholding Agency: VA

Property Number: 97200340001

Status: Underutilized

Reason: Secured Area

Bldg. 4

VA Medical Center

Jefferson Barracks Division

St. Louis MO-

Landholding Agency: VA

Property Number: 97200340002

Status: Underutilized

Reason: Secured Area

Bldg. 27

VA Medical Center

Jefferson Barracks Division

St. Louis MO 63125-

Landholding Agency: VA

Property Number: 97200340003

Status: Underutilized

Reason: Secured Area

Bldg. 28

VA Medical Center

Jefferson Barracks Division

St. Louis MO 63125-

Landholding Agency: VA

Property Number: 97200340004

Status: Underutilized

Reason: Secured Area

Bldg. 29

VA Medical Center

Jefferson Barracks Division

St. Louis MO 63125-

Landholding Agency: VA

Property Number: 97200340005

Status: Underutilized

Reason: Secured Area

Bldg. 50

VA Medical Center

Jefferson Barracks Division

St. Louis MO 63125-

Landholding Agency: VA

Property Number: 97200340006

Status: Underutilized

Reason: Secured Area

Nebraska

Vault Toilets

Harlan County Project

Republican NE 68971-

Landholding Agency: COE

Property Number: 31200210006

Status: Unutilized

Reason: Extensive deterioration

Patterson Treatment Plant

Harlan County Project

Republican NE 68971-

Landholding Agency: COE

Property Number: 31200210007

Status: Unutilized

Reason: Extensive deterioration

#30004

Harlan County Project

Republican Co: Harlan NE 68971-

Landholding Agency: COE

Property Number: 31200220008

Status: Unutilized

Reason: Extensive deterioration

#3005, 3006

Harlan County Project

Republican Co: Harlan NE 68971-

Landholding Agency: COE

Property Number: 31200220009

Status: Unutilized

Reason: Extensive deterioration

Bldgs. 70001, 70002

South Outlet Park

Republican City Co: NE-

Landholding Agency: COE

Property Number: 31200510010

Status: Excess

Reason: Extensive deterioration

Bldgs. 40002, 40003, 40006

Harlan County Lake

Republican City Co: NE 68971-

Landholding Agency: COE

Property Number: 31200610009

Status: Excess

Reason: Extensive deterioration

Bldg. 40020

Harlan County Lake

Republican City Co: NE 68971-

Landholding Agency: COE

Property Number: 31200610010

Status: Excess

Reason: Extensive deterioration

4 Bldgs.

43004, 43007, 43008, 43009

Republican City Co: NE 68971-

Landholding Agency: COE

Property Number: 31200610011

Status: Excess

Reason: Extensive deterioration

6 Bldgs.

Harlan County Lake

Republican City Co: NE 68971-

Location: 50003, 50004, 50005, 50006, 50007, 50008

Landholding Agency: COE

Property Number: 31200610012

Status: Excess

Reason: Extensive deterioration

Nevada

28 Facilities

Nevada Test Site

Mercury Co: Nye NV 89023-

Landholding Agency: Energy

Property Number: 41200310018

Status: Excess

Reasons: Contamination, Secured Area

31 Bldgs./Facilities

Nellis AFB

Tonopah Test Range

Tonopah Co: Nye NV 89049-

Landholding Agency: Energy

Property Number: 41200330003

Status: Unutilized

Reason: Secured Area

42 Bldgs.

Nellis Air Force Base

Tonopah Co: Nye NV 89049-

Location: 49-01, NM104, NM105, 03-35A-H, 03-35J-N, 03-36A-C, 03-36E-H, 03-36J-N, 03-36R, 03-37, 15036, 03-44A-D, 03-46, 03-47, 03-49, 03-88, 03-89, 03-90

Landholding Agency: Energy

Property Number: 41200410029

Status: Unutilized

Reason: Secured Area

241 Bldgs.

Tonopah Test Range

Tonopah Co: Nye NV 89049-

Landholding Agency: Energy

Property Number: 41200440036

Status: Excess

Reasons: Within 2000 ft. of flammable or explosive material, Secured Area

New Mexico

Bldgs. 9252, 9268

Kirtland Air Force Base

Albuquerque Co: Bernalillo NM 87185-

Landholding Agency: Energy

Property Number: 41199430002

Status: Unutilized

Reason: Extensive deterioration

Tech Area II

Kirtland Air Force Base

Albuquerque Co: Bernalillo NM 87105-

Landholding Agency: Energy

Property Number: 41199630004

Status: Unutilized

Reasons: Within 2000 ft. of flammable or explosive material, Secured Area, Extensive deterioration

Bldg. 26, TA-33

Los Alamos National Laboratory

Los Alamos NM 87545-

Landholding Agency: Energy

Property Number: 41199810004

Status: Unutilized

Reasons: Secured Area, Extensive deterioration

Bldg. 2, TA-21

Los Alamos National Laboratory

Los Alamos NM 87545-

Landholding Agency: Energy

Property Number: 41199810008

Status: Underutilized

Reason: Secured Area

Bldg. 5, TA-21

Los Alamos National Laboratory

Los Alamos NM 87545-

Landholding Agency: Energy

Property Number: 41199810011

Status: Unutilized

Reason: Secured Area

Bldg. 21, TA-21

Los Alamos National Laboratory

Los Alamos NM 87545-

Landholding Agency: Energy

Property Number: 41199810012

Status: Unutilized

Reason: Secured Area

Bldg. 116, TA-21

Los Alamos National Laboratory

Los Alamos NM 87545-

Landholding Agency: Energy

Property Number: 41199810013

Status: Unutilized

Reason: Secured Area

Bldg. 228, TA-21

Los Alamos National Laboratory

Los Alamos NM 87545-

Landholding Agency: Energy

Property Number: 41199810015

Status: Unutilized

Reason: Secured Area

Bldg. 286, TA-21

Los Alamos National Laboratory

Los Alamos NM 87545-

Landholding Agency: Energy

Property Number: 41199810016

Status: Unutilized

Reason: Secured Area

Bldg. 516, TA-16

Los Alamos National Laboratory

Los Alamos NM 87545-

Landholding Agency: Energy

Property Number: 41199810021

Status: Unutilized

Reasons: Within 2000 ft. of flammable or explosive material; Secured Area; Extensive deterioration

Bldg. 517, TA-16

Los Alamos National Laboratory

Los Alamos NM 87545-

Landholding Agency: Energy

Property Number: 41199810022

Status: Unutilized

Reasons: Within 2000 ft. of flammable or explosive material; Secured Area; Extensive deterioration

Bldg. 31

Los Alamos National Lab

Los Alamos NM 87545-

Landholding Agency: Energy

Property Number: 41199930003

Status: Unutilized

Reasons: Secured Area; Extensive deterioration

Bldg. 21, TA-2

Los Alamos National Lab

Los Alamos NM 87545-

Landholding Agency: Energy

Property Number: 41199940001

Status: Unutilized

Reason: Secured Area

Bldg. 38, TA-14

Los Alamos National Lab

Los Alamos NM 87545-

Landholding Agency: Energy

Property Number: 41199940004

Status: Unutilized

Reasons: Secured Area; Extensive deterioration

Bldg. 8, TA-15

Los Alamos National Lab

Los Alamos NM 87545-

Landholding Agency: Energy

Property Number: 41199940005

Status: Unutilized

Reasons: Secured Area; Extensive deterioration

Bldg. 9, TA-15

Los Alamos National Lab

Los Alamos NM 87545-

Landholding Agency: Energy

Property Number: 41199940006

Status: Unutilized

Reason: Secured Area

Bldg. 22, TA-15

Los Alamos National Lab

Los Alamos NM 87545-

Landholding Agency: Energy

Property Number: 41199940007

Status: Unutilized

Reason: Secured Area

Bldg. 141, TA-15

Los Alamos National Lab

Los Alamos NM 87545-

Landholding Agency: Energy

Property Number: 41199940008

Status: Unutilized

Reason: Secured Area

Bldg. 44, TA-15

Los Alamos National Lab

Los Alamos NM 87545-

Landholding Agency: Energy

Property Number: 41199940009

Status: Unutilized

Reason: Secured Area

Bldg. 2, TA-18

Los Alamos National Lab

Los Alamos NM 87545-

Landholding Agency: Energy

Property Number: 41199940010

Status: Unutilized

Reasons: Secured Area; Extensive deterioration

Bldg. 5, TA-18

Los Alamos National Lab

Los Alamos NM 87545-

Landholding Agency: Energy

Property Number: 41199940011

Status: Unutilized

Reasons: Secured Area; Extensive deterioration

Bldg. 186, TA-18

Los Alamos National Lab

Los Alamos NM 87545-

Landholding Agency: Energy

Property Number: 41199940012

Status: Unutilized

Reasons: Secured Area; Extensive deterioration

Bldg. 188, TA-18

Los Alamos National Lab

Los Alamos NM 87545-

Landholding Agency: Energy

Property Number: 41199940013

Status: Unutilized

Reasons: Secured Area; Extensive deterioration

Bldg. 44, TA-36

Los Alamos National Lab

Los Alamos NM 87545-

Landholding Agency: Energy

Property Number: 41199940015

Status: Unutilized

Reasons: Secured Area; Extensive deterioration

Bldg. 45, TA-36

Los Alamos National Lab

Los Alamos NM 87545-

Landholding Agency: Energy

Property Number: 41199940016

Status: Unutilized

Reasons: Secured Area; Extensive deterioration

Bldg. 19, TA-40

Los Alamos National Lab

Los Alamos NM 87545-

Landholding Agency: Energy

Property Number: 41199940017

Status: Unutilized

Reasons: Secured Area; Extensive deterioration

Bldg. 43, TA-40

Los Alamos National Lab

Los Alamos NM 87545-

Landholding Agency: Energy

Property Number: 41199940018

Status: Unutilized

Reasons: Secured Area; Extensive deterioration

Bldg. 258, TA-46

Los Alamos National Lab

Los Alamos NM 87545-

Landholding Agency: Energy

Property Number: 41199940019

Status: Unutilized

Reasons: Secured Area; Extensive deterioration

TA-3, Bldg. 208

Los Alamos National Lab

Los Alamos NM 87545-

Landholding Agency: Energy

Property Number: 41200010010

Status: Unutilized

Reasons: Secured Area; Extensive deterioration

TA-6, Bldg. 1

Los Alamos National Lab

Los Alamos NM 87545-

Landholding Agency: Energy

Property Number: 41200010011

Status: Unutilized

Reasons: Secured Area; Extensive deterioration

TA-6, Bldg. 2

Los Alamos National Lab

Los Alamos NM 87545-

Landholding Agency: Energy

Property Number: 41200010012

Status: Unutilized

Reasons: Secured Area; Extensive deterioration

TA-6, Bldg. 3

Los Alamos National Lab

Los Alamos NM 87545-

Landholding Agency: Energy

Property Number: 41200010013

Status: Unutilized

Reasons: Secured Area; Extensive deterioration

TA-6, Bldg. 5

Los Alamos National Lab

Los Alamos NM 87545-

Landholding Agency: Energy

Property Number: 41200010014

Status: Unutilized

Reasons: Secured Area; Extensive deterioration

TA-6, Bldg. 6

Los Alamos National Lab

Los Alamos NM 87545-

Landholding Agency: Energy

Property Number: 41200010015

Status: Unutilized

Reason: Secured Area

TA-6, Bldg. 7

Los Alamos National Lab

Los Alamos NM 87545-

Landholding Agency: Energy

Property Number: 41200010016

Status: Unutilized

Reason: Secured Area

TA-6, Bldg. 8

Los Alamos National Lab

Los Alamos NM 87545-

Landholding Agency: Energy

Property Number: 41200010017

Status: Unutilized

Reasons: Secured Area; Extensive deterioration

TA-6, Bldg. 9

Los Alamos National Lab

Los Alamos NM 87545-

Landholding Agency: Energy

Property Number: 41200010018

Status: Unutilized

Reason: Secured Area

TA-14, Bldg. 5

Los Alamos National Lab

Los Alamos NM 87545-

Landholding Agency: Energy

Property Number: 41200010019

Status: Unutilized

Reason: Secured Area

TA-21, Bldg. 150

Los Alamos National Lab

Los Alamos NM 87545-

Landholding Agency: Energy

Property Number: 41200010020

Status: Unutilized

Reason: Secured Area

Bldg. 149, TA-21

Los Alamos National Lab

Los Alamos NM 87545-

Landholding Agency: Energy

Property Number: 41200010024

Status: Unutilized

Reason: Secured Area

Bldg. 312, TA-21

Los Alamos National Lab

Los Alamos NM 87545-

Landholding Agency: Energy

Property Number: 41200010025

Status: Unutilized

Reason: Secured Area

Bldg. 313, TA-21

Los Alamos National Lab

Los Alamos NM 87545-

Landholding Agency: Energy

Property Number: 41200010026

Status: Unutilized

Reason: Secured Area

Bldg. 314, TA-21

Los Alamos National Lab

Los Alamos NM 87545-

Landholding Agency: Energy

Property Number: 41200010027

Status: Unutilized

Reason: Secured Area

Bldg. 315, TA-21

Los Alamos National Lab

Los Alamos NM 87545-

Landholding Agency: Energy

Property Number: 41200010028

Status: Unutilized

Reason: Secured Area

Bldg. 1, TA-8

Los Alamos National Lab

Los Alamos NM 87545-

Landholding Agency: Energy

Property Number: 41200010029

Status: Unutilized

Reason: Secured Area

Bldg. 2, TA-8

Los Alamos National Lab

Los Alamos NM 87545-

Landholding Agency: Energy

Property Number: 41200010030

Status: Unutilized

Reasons: Secured Area; Extensive deterioration

Bldg. 3, TA-8

Los Alamos National Lab

Los Alamos NM 87545-

Landholding Agency: Energy

Property Number: 41200020001

Status: Unutilized

Reasons: Secured Area; Extensive deterioration

Bldg. 51, TA-9

Los Alamos National Lab

Los Alamos NM 87545-

Landholding Agency: Energy

Property Number: 41200020002

Status: Unutilized

Reason: Secured Area

Bldg. 30, TA-14

Los Alamos National Lab

Los Alamos NM 87545-

Landholding Agency: Energy

Property Number: 41200020003

Status: Unutilized

Reason: Secured Area

Bldg. 16, TA-3

Los Alamos National Lab

Los Alamos NM 87545-

Landholding Agency: Energy

Property Number: 41200020009

Status: Unutilized

Reason: Secured Area

Bldg. 339, TA-16

Los Alamos National Lab

Los Alamos NM 87545-

Landholding Agency: Energy

Property Number: 41200020010

Status: Unutilized

Reason: Secured Area

Bldg. 340, TA-16

Los Alamos National Lab

Los Alamos NM 87545-

Landholding Agency: Energy

Property Number: 41200020011

Status: Unutilized

Reason: Secured Area

Bldg. 341, TA-16

Los Alamos National Lab

Los Alamos NM 87545-

Landholding Agency: Energy

Property Number: 41200020012

Status: Unutilized

Reason: Secured Area

Bldg. 342, TA-16

Los Alamos National Lab

Los Alamos NM 87545-

Landholding Agency: Energy

Property Number: 41200020013

Status: Unutilized

Reason: Secured Area

Bldg. 343, TA-16

Los Alamos National Lab

Los Alamos NM 87545-

Landholding Agency: Energy

Property Number: 41200020014

Status: Unutilized

Reason: Secured Area

Bldg. 345, TA-16

Los Alamos National Lab

Los Alamos NM 87545-

Landholding Agency: Energy

Property Number: 41200020015

Status: Unutilized

Reason: Secured Area

Bldg. 48, TA-55

Los Alamos National Lab

Los Alamos NM 87545-

Landholding Agency: Energy

Property Number: 41200020017

Status: Unutilized

Reason: Secured Area

Bldg. 125, TA-55

Los Alamos National Lab

Los Alamos NM 87545-

Landholding Agency: Energy

Property Number: 41200020018

Status: Unutilized

Reason: Secured Area

Bldg. 162, TA-55

Los Alamos National Lab

Los Alamos NM 87545-

Landholding Agency: Energy

Property Number: 41200020019

Status: Unutilized

Reason: Secured Area

Bldg. 22, TA-33

Los Alamos National Lab

Los Alamos NM 87545-

Landholding Agency: Energy

Property Number: 41200020022

Status: Unutilized

Reasons: Secured Area; Extensive deterioration

Bldg. 23, TA-49

Los Alamos National Lab

Los Alamos NM 87545-

Landholding Agency: Energy

Property Number: 41200020023

Status: Unutilized

Reason: Secured Area

Bldg. 37, TA-53

Los Alamos National Lab

Los Alamos NM 87545-

Landholding Agency: Energy

Property Number: 41200020024

Status: Unutilized

Reason: Secured Area

Bldg. 121, TA-49

Los Alamos National Lab

Los Alamos NM 87545-

Landholding Agency: Energy

Property Number: 41200020025

Status: Unutilized

Reason: Secured Area

5 Bldgs.

Kirtland AFB

Sandia Natl Lab

Albuquerque Co: Bernalillo NM 87185-

Location: 9927, 9970, 6730, 6731, 6555

Landholding Agency: Energy

Property Number: 41200210014

Status: Excess

Reason: Extensive deterioration

6 Bldgs.

Kirtland AFB

Sandia Natl Lab

Albuquerque Co: Bernalillo NM 87185-

Location: 6725, 841, 884, 892, 893, 9800

Landholding Agency: Energy

Property Number: 41200210015

Status: Excess

Reason: Extensive deterioration

TA-53, Bldg. 61

Los Alamos National Lab

Los Alamos NM 87545-

Landholding Agency: Energy

Property Number: 41200220023

Status: Unutilized

Reason: Extensive deterioration

TA-53, Bldg. 63

Los Alamos National Lab

Los Alamos NM 87545-

Landholding Agency: Energy

Property Number: 41200220024

Status: Unutilized

Reason: Extensive deterioration

TA-53, Bldg. 65

Los Alamos National Lab

Los Alamos NM 87545-

Landholding Agency: Energy

Property Number: 41200220025

Status: Unutilized

Reason: Extensive deterioration

Bldg. B117

Kirtland Operations

Albuquerque Co: Bernalillo NM 87117-

Landholding Agency: Energy

Property Number: 41200220032

Status: Excess

Reason: Extensive deterioration

Bldg. B118

Kirtland Operations

Albuquerque Co: Bernalillo NM 87117-

Landholding Agency: Energy

Property Number: 41200220033

Status: Excess

Reason: Extensive deterioration

Bldg. B119

Kirtland Operations

Albuquerque Co: Bernalillo NM 87117-

Landholding Agency: Energy

Property Number: 41200220034

Status: Excess

Reason: Extensive deterioration

Bldg. 6721

Kirtland AFB

Albuquerque Co: Bernalillo NM 87185-

Landholding Agency: Energy

Property Number: 41200220042

Status: Unutilized

Reason: Extensive deterioration

6 Bldgs.

Kirtland Air Force Base

#852, 874, 9939A, 6536, 6636, 833A

Albuquerque NM 87185-

Landholding Agency: Energy

Property Number: 41200230001

Status: Excess

Reason: Secured Area

Bldg. 805

Kirtland Air Force Base

Albuquerque Co: Bernalillo NM 87185-

Landholding Agency: Energy

Property Number: 41200240001

Status: Unutilized

Reason: Secured Area

Bldg. 8898

Kirtland Air Force Base

Albuquerque Co: Bernalillo NM 87185-

Landholding Agency: Energy

Property Number: 41200240002

Status: Unutilized

Reason: Secured Area

8 Bldgs., TA-16

Los Alamos National Lab

195, 220-226

Los Alamos NM 87545-

Landholding Agency: Energy

Property Number: 41200240003

Status: Unutilized

Reason: Secured Area

Bldg. 2, TA-11

Los Alamos National Lab

Los Alamos NM 87545-

Landholding Agency: Energy

Property Number: 41200240004

Status: Unutilized

Reason: Secured Area

Bldg. 4, TA-41

Los Alamos National Lab

Los Alamos NM 87545-

Landholding Agency: Energy

Property Number: 41200240005

Status: Unutilized

Reason: Secured Area

Bldg. 16, TA-41

Los Alamos National Lab

Los Alamos NM 87545-

Landholding Agency: Energy

Property Number: 41200240006

Status: Unutilized

Reason: Secured Area

Bldg. 30, TA-41

Los Alamos National Lab

Los Alamos NM 87545-

Landholding Agency: Energy

Property Number: 41200240007

Status: Unutilized

Reason: Secured Area

Bldg. 53, TA-41

Los Alamos National Lab

Los Alamos NM 87545-

Landholding Agency: Energy

Property Number: 41200240008

Status: Unutilized

Reason: Secured Area

Bldg. 2, TA-33

Los Alamos National Lab

Los Alamos NM 87545-

Landholding Agency: Energy

Property Number: 41200310001

Status: Unutilized

Reasons: Secured Area; Extensive deterioration

Bldgs. 228, 286, TA-21

Los Alamos National Lab

Los Alamos NM 87545-

Landholding Agency: Energy

Property Number: 41200310002

Status: Unutilized

Reason: Secured Area

Bldg. 116, TA-21

Los Alamos National Lab

Los Alamos NM 87545-

Landholding Agency: Energy

Property Number: 41200310003

Status: Unutilized

Reason: Secured Area

Bldgs. 1, 2, 3, 4, 5, TA-28

Los Alamos National Lab

Los Alamos NM 87545-

Landholding Agency: Energy

Property Number: 41200310004

Status: Unutilized

Reason: Secured Area

Bldgs. 447, 1483

Los Alamos Natl Laboratory

Los Alamos NM

Landholding Agency: Energy

Property Number: 41200410002

Status: Excess

Reasons: Secured Area; Extensive deterioration

Bldgs. 870C & 9830

Kirtland AFB

Albuquerque Co: Bernalillo NM 87185-

Landholding Agency: Energy

Property Number: 41200410037

Status: Excess

Reason: Secured Area

Bldg. 99650

Sandia National Laboratory

Albuquerque Co: Bernalillo NM 87185-

Landholding Agency: Energy

Property Number: 41200510004

Status: Unutilized

Reason: Secured Area

New York

Warehouse

Whitney Lake Project

Whitney Point Co: Broome NY 13862-0706

Landholding Agency: COE

Property Number: 31199630007

Status: Unutilized

Reason: Extensive deterioration

North Carolina

RPFN 0S1

Group Cape Hatteras

Buxton Co: Dare NC 27902-

Landholding Agency: Coast Guard

Property Number: 88200540001

Status: Unutilized

Reasons: Secured Area; Extensive deterioration

RPFN 053

Sector NC

Atlantic Beach Co: Carteret NC 28512-

Landholding Agency: Coast Guard

Property Number: 88200540002

Status: Unutilized

Reasons: Secured Area; Extensive deterioration

Bldg. 9

VA Medical Center

1100 Tunnel Road

Asheville Co: Buncombe NC 28805-

Landholding Agency: VA

Property Number: 97199010008

Status: Unutilized

Reason: Extensive deterioration

Ohio

Modular Ofc. Bldg.

RMI

Ashtabula OH 44004-

Landholding Agency: Energy

Property Number: 41200310008

Status: Excess

Reason: Contamination

Modular Lab Bldg.

RMI

Ashtabula OH 44004-

Landholding Agency: Energy

Property Number: 41200310009

Status: Excess

Reason: Contamination

Soil Storage Bldg.

RMI

Ashtabula OH 44004-

Landholding Agency: Energy

Property Number: 41200310010

Status: Excess

Reason: Contamination

Bldg. 24C

Fernald Env. Mgmt. Proj.

Hamilton Co: Butler OH 45013-

Landholding Agency: Energy

Property Number: 41200310013

Status: Excess

Reasons: Contamination; Secured Area

Bldg. 105

VA Medical Center

Dayton Co: Montgomery OH 45428-

Landholding Agency: VA

Property Number: 97199920005

Status: Unutilized

Reason: Extensive deterioration

Oklahoma

Comfort Station

LeFlore Landing PUA

Sallisaw Co: LeFlore OK 74955-9445

Landholding Agency: COE

Property Number: 31200240008

Status: Excess

Reason: Extensive deterioration

Comfort Station

Braden Bend PUA

Sallisaw Co: LeFlore OK 74955-9445

Landholding Agency: COE

Property Number: 31200240009

Status: Excess

Reason: Extensive deterioration

Water Treatment Plant

Salt Creek Cove

Sawyer Co: Choctaw OK 74756-0099

Landholding Agency: COE

Property Number: 31200240010

Status: Excess

Reason: Extensive deterioration

Water Treatment Plant

Wilson Point

Sawyer Co: Choctaw OK 74756-0099

Landholding Agency: COE

Property Number: 31200240011

Status: Excess

Reason: Extensive deterioration

2 Comfort Stations

Landing PUA/Juniper Point PUA

Stigler Co: McIntosh OK 74462-9440

Landholding Agency: COE

Property Number: 31200240012

Status: Excess

Reason: Extensive deterioration

Filter Plant/Pumphouse

South PUA

Stigler Co: McIntosh OK 74462-9440

Landholding Agency: COE

Property Number: 31200240013

Status: Excess

Reason: Extensive deterioration

Filter Plant/Pumphouse

North PUA

Stigler Co: McIntosh OK 74462-9440

Landholding Agency: COE

Property Number: 31200240014

Status: Excess

Reason: Extensive deterioration

Filter Plant/Pumphouse

Juniper Point PUA

Stigler Co: McIntosh OK 74462-9440

Landholding Agency: COE

Property Number: 31200240015

Status: Excess

Reason: Extensive deterioration

Comfort Station

Juniper Point PUA

Stigler Co: McIntosh OK 74462-9440

Landholding Agency: COE

Property Number: 31200240016

Status: Excess

Reason: Extensive deterioration

Comfort Station

Brooken Cove PUA

Stigler Co: McIntosh OK 74462-9440

Landholding Agency: COE

Property Number: 31200240017

Status: Excess

Reason: Extensive deterioration

2 Bldgs.

Outlet Channel/Walker Creek

Waurika OK 73573-0029

Landholding Agency: COE

Property Number: 31200340013

Status: Excess

Reason: Extensive deterioration

2 Bldgs.

Damsite South

Stigler OK 74462-9440

Landholding Agency: COE

Property Number: 31200340014

Status: Excess

Reason: Extensive deterioration

19 Bldgs.

Kaw Lake

Ponca City OK 74601-9962

Landholding Agency: COE

Property Number: 31200340015

Status: Excess

Reason: Extensive deterioration

30 Bldgs.

Keystone Lake

Sand Springs OK 74063-9338

Landholding Agency: COE

Property Number: 31200340016

Status: Excess

Reason: Extensive deterioration

13 Bldgs.

Oologah Lake

Oologah OK 74053-0700

Landholding Agency: COE

Property Number: 31200340017

Status: Excess

Reason: Extensive deterioration

14 Bldgs.

Pine Creek Lake

Valliant OK 74764-9801

Landholding Agency: COE

Property Number: 31200340018

Status: Excess

Reason: Extensive deterioration

6 Bldgs.

Sardis Lake

Clayton OK 74536-9729

Landholding Agency: COE

Property Number: 31200340019

Status: Excess

Reason: Extensive deterioration

24 Bldgs.

Skiatook Lake

Skiatook OK 74070-9803

Landholding Agency: COE

Property Number: 31200340020

Status: Excess

Reason: Extensive deterioration

40 Bldgs.

Eufaula Lake

Stigler OK 74462-5135

Landholding Agency: COE

Property Number: 31200340021

Status: Excess

Reason: Extensive deterioration

2 Bldgs.

Holiday Cove

Stigler OK 74462-5135

Landholding Agency: COE

Property Number: 31200340022

Status: Excess

Reason: Extensive deterioration

18 Bldgs.

Fort Gibson

Ft. Gibson Co: Wagoner OK 74434-0370

Landholding Agency: COE

Property Number: 31200340023

Status: Excess

Reason: Extensive deterioration

2 Bldgs.

Fort Supply

Ft. Supply Co: Woodward OK 73841-0248

Landholding Agency: COE

Property Number: 31200340024

Status: Excess

Reason: Extensive deterioration

Game Bird House

Fort Supply Lake

Ft. Supply Co: Woodward OK 73841-0248

Landholding Agency: COE

Property Number: 31200340025

Status: Excess

Reason: Extensive deterioration

11 Bldgs.

Hugo Lake

Sawyer OK 74756-0099

Landholding Agency: COE

Property Number: 31200340026

Status: Excess

Reason: Extensive deterioration

5 Bldgs.

Birch Cove/Twin Cove

Skiatook OK 74070-9803

Landholding Agency: COE

Property Number: 31200340027

Status: Excess

Reason: Extensive deterioration

2 Bldgs.

Fairview Group Camp

Canton OK 73724-0069

Landholding Agency: COE

Property Number: 31200340028

Status: Excess

Reason: Extensive deterioration

2 Bldgs.

Chouteau & D Bluff

Gore Co: Wagoner OK 74935-9404

Landholding Agency: COE

Property Number: 31200340029

Status: Excess

Reason: Extensive deterioration

2 Bldgs.

Newt Graham L&D

Gore OK 74935-9404

Landholding Agency: COE

Property Number: 31200340030

Status: Excess

Reason: Extensive deterioration

6 Bldgs.

Damsite/Fisherman's Landing

Sallisaw OK 74955-9445

Landholding Agency: COE

Property Number: 31200340031

Status: Excess

Reason: Extensive deterioration

10 Bldgs.

Webbers Falls Lake

Gore OK 74435-5541

Landholding Agency: COE

Property Number: 31200340032

Status: Excess

Reason: Extensive deterioration

14 Bldgs.

Copan Lake

Copan OK 74022-9762

Landholding Agency: COE

Property Number: 31200340033

Status: Excess

Reason: Extensive deterioration

Bldg.

Lower Storage Yard

Skiatook Co: Osage OK 74070-

Landholding Agency: COE

Property Number: 31200530007

Status: Excess

Reason: Extensive deterioration

3 Bldgs.

Birch Cove PUA

Skiatook Co: Osage OK 74070-

Landholding Agency: COE

Property Number: 31200530008

Status: Excess

Reason: Extensive deterioration

Bldg.

Canadian Public Use Area

Canton Co: Blaine OK 73724-

Landholding Agency: COE

Property Number: 31200530009

Status: Excess

Reason: Extensive deterioration

3 Bldgs.

Porum Landing PUA

Stigler Co: McIntosh OK 74462-

Landholding Agency: COE

Property Number: 31200530010

Status: Excess

Reason: Extensive deterioration

2 Bldgs.

Taylor Ferry

Ft. Gibson Co: Wagoner OK 74434-

Landholding Agency: COE

Property Number: 31200530011

Status: Excess

Reason: Extensive deterioration

2 Bldgs.

Bluff/Afton Landing

Ft. Gibson Co: Wagoner OK 74434-

Landholding Agency: COE

Property Number: 31200530012

Status: Excess

Reason: Extensive deterioration

Bldg.

Lake Office

Ft. Supply Co: Woodward OK 73841-

Landholding Agency: COE

Property Number: 31200530013

Status: Excess

Reason: Extensive deterioration

4 Bldgs.

Overlook PUA

Ft. Supply Co: Texas OK 73841-

Landholding Agency: COE

Property Number: 31200530014

Status: Excess

Reason: Extensive deterioration

Bldg.

Hugo Lake

Sawyer Co: Chocktaw OK 74756-

Landholding Agency: COE

Property Number: 31200530015

Status: Excess

Reason: Extensive deterioration

2 Bldgs.

Sarge Creek PUA

Ponca City Co: Kay OK 74601-

Landholding Agency: COE

Property Number: 31200530016

Status: Excess

Reason: Extensive deterioration

5 Bldgs.

Hawthorne Bluff

Oologah Co: Rogers OK 74053-

Landholding Agency: COE

Property Number: 31200530017

Status: Excess

Reason: Extensive deterioration

12 Bldgs.

Trout Stream PUAs

Gore Co: Sequoyah OK 74435-

Landholding Agency: COE

Property Number: 31200530018

Status: Excess

Reason: Extensive deterioration

14 Bldgs.

Chicken Creek PUAs

Gore Co: Cherokee OK 74435-

Landholding Agency: COE

Property Number: 31200530019

Status: Excess

Reason: Extensive deterioration

4 Bldgs.

Snake Creek Area

Gore Co: Sequoyah OK 74435-

Landholding Agency: COE

Property Number: 31200530020

Status: Excess

Reason: Extensive deterioration

3 Bldgs.

Brewer's Bend

Gore Co: Muskogee OK 74435-

Landholding Agency: COE

Property Number: 31200530021

Status: Excess

Reason: Extensive deterioration

Oregon

2 Floating Docks

Rogue River

Gold Beach Co: Curry OR 97444-

Landholding Agency: COE

Property Number: 31200430015

Status: Excess

Reason: Floodway

2 Trailers

John Day Project

#1 West Marine Drive

Boardman Co: Morrow OR 97818-

Landholding Agency: COE

Property Number: 31200510012

Status: Unutilized

Reason: Extensive deterioration

Pennsylvania

Z-Bldg.

Bettis Atomic Power Lab

West Mifflin Co: Allegheny PA 15122-0109

Landholding Agency: Energy

Property Number: 41199720002

Status: Excess

Reason: Extensive deterioration

Parcel A

Valley Forge Army Hospital

Schuylkill Township

Phoenixville Co: Chester PA 19460-

Landholding Agency: GSA

Property Number: 54200610008

Status: Surplus

Reason: Extensive deterioration

GSA Number: 4GRPA0666A

South Carolina

Bldg. 5

J. Strom Thurmond Project

Clarks Hill Co: McCormick SC 29821-

Landholding Agency: COE

Property Number: 31200520007

Status: Unutilized

Reason: Extensive deterioration

Bldg. 701-6G

Jackson Barricade

Jackson SC

Landholding Agency: Energy

Property Number: 41200420010

Status: Unutilized

Reason: Secured Area

Bldg. 211-000F

Nuclear Materials Processing Facility

Aiken SC 29802-

Landholding Agency: Energy

Property Number: 41200420011

Status: Excess

Reason: Secured Area

Bldg. 211-002F

Nuclear Materials Processing Facility

Aiken SC 29802-

Landholding Agency: Energy

Property Number: 41200420013

Status: Excess

Reason: Secured Area

Bldg. 221-001F

Nuclear Materials Processing Facility

Aiken SC 29802-

Landholding Agency: Energy

Property Number: 41200420015

Status: Excess

Reason: Secured Area

Bldgs. 186-K, 186-1K

Savannah River Operations

Aiken SC 29802-

Landholding Agency: Energy

Property Number: 41200420027

Status: Unutilized

Reason: Secured Area

Bldgs. 186-P, 186-1P

Savannah River Operations

Aiken SC 29802-

Landholding Agency: Energy

Property Number: 41200420028

Status: Unutilized

Reason: Secured Area

Bldg. 190-K

Savannah River Operations

Aiken SC 29802-

Landholding Agency: Energy

Property Number: 41200420030

Status: Unutilized

Reason: Secured Area

Bldg. 190-P

Savannah River Operations

Aiken SC 29802-

Landholding Agency: Energy

Property Number: 41200420031

Status: Unutilized

Reason: Secured Area

Bldg. 704-002N

Savannah River Operations

Aiken Co: SC 29802-

Landholding Agency: Energy

Property Number: 41200430001

Status: Excess

Reason: Secured Area

Bldg. 710-015N

Savannah River Operations

Aiken Co: SC 29802-

Landholding Agency: Energy

Property Number: 41200430002

Status: Excess

Reason: Secured Area

Bldg. 713-000N

Savannah River Operations

Aiken Co: SC 29802-

Landholding Agency: Energy

Property Number: 41200430003

Status: Excess

Reason: Secured Area

Bldg. 717-000C

Savannah River Operations

Aiken Co: SC 29802-

Landholding Agency: Energy

Property Number: 41200430004

Status: Excess

Reason: Secured Area

Bldg. 717-011N

Savannah River Operations

Aiken Co: SC 29802-

Landholding Agency: Energy

Property Number: 41200430005

Status: Excess

Reason: Secured Area

Bldgs. 80-9G, 10G

Savannah River Operations

Aiken Co: SC 29802-

Landholding Agency: Energy

Property Number: 41200430006

Status: Excess

Reason: Secured Area

Bldgs. 105-P, 105-R

Savannah River Operations

Aiken Co: SC 29802-

Landholding Agency: Energy

Property Number: 41200430007

Status: Excess

Reason: Secured Area

Bldg. 183-002P

Savannah River Operations

Aiken Co: SC 29802-

Landholding Agency: Energy

Property Number: 41200430008

Status: Excess

Reason: Secured Area

Bldg. 183-003L

Savannah River Operations

Aiken Co: SC 29802-

Landholding Agency: Energy

Property Number: 41200430009

Status: Excess

Reason: Secured Area

Bldgs. 183-004K, 004L, 004P

Savannah River Operations

Aiken Co: SC 29802-

Landholding Agency: Energy

Property Number: 41200430010

Status: Excess

Reason: Secured Area

6 Bldgs.

Savannah River Operations

Aiken Co: SC 29802-

Location: 185-000K, 607-020K, 110-000L, 107-000P, 607-024P, 109-000R

Landholding Agency: Energy

Property Number: 41200430011

Status: Excess

Reason: Secured Area

Bldg. 191-000L

Savannah River Operations

Aiken Co: SC 29802-

Landholding Agency: Energy

Property Number: 41200430012

Status: Excess

Reason: Secured Area

Bldg. 221-016F

Savannah River Operations

Aiken Co: SC 29802-

Landholding Agency: Energy

Property Number: 41200430014

Status: Excess

Reason: Secured Area

Bldgs. 221-034F, 035F

Savannah River Operations

Aiken Co: SC 29802-

Landholding Agency: Energy

Property Number: 41200430015

Status: Excess

Reason: Secured Area

Bldgs. 221-053F, 054F

Savannah River Operations

Aiken Co: SC 29802-

Landholding Agency: Energy

Property Number: 41200430016

Status: Excess

Reason: Secured Area

Bldgs. 252-003F, 005F

Savannah River Operations

Aiken Co: SC 29802-

Landholding Agency: Energy

Property Number: 41200430017

Status: Excess

Reason: Secured Area

Bldg. 607-022P

Savannah River Operations

Aiken Co: SC 29802-

Landholding Agency: Energy

Property Number: 41200430018

Status: Excess

Reason: Secured Area

Bldg. 647-000G

Savannah River Operations

Aiken Co: SC 29802-

Landholding Agency: Energy

Property Number: 41200430020

Status: Excess

Reason: Secured Area

Bldg. 704-000P

Savannah River Operations

Aiken Co: SC 29802-

Landholding Agency: Energy

Property Number: 41200430022

Status: Excess

Reason: Secured Area

Bldgs. 723-001L, 002L, 003L

Savannah River Operations

Aiken Co: SC 29802-

Landholding Agency: Energy

Property Number: 41200430025

Status: Excess

Reason: Secured Area

Bldg. 221-013F

Savannah River Operations

Aiken Co: SC 29802-

Landholding Agency: Energy

Property Number: 41200430028

Status: Excess

Reason: Secured Area

Bldg. 278-002N

Savannah River Operations

Aiken Co: SC 29802-

Landholding Agency: Energy

Property Number: 41200430029

Status: Excess

Reason: Secured Area

Bldg. 315-M

Savannah River Operations

Aiken Co: SC 29802-

Landholding Agency: Energy

Property Number: 41200430030

Status: Excess

Reason: Secured Area

Bldg. 607-009C

Savannah River Operations

Aiken Co: SC 29802-

Landholding Agency: Energy

Property Number: 41200430032

Status: Excess

Reason: Secured Area

Bldg. 607-038N

Savannah River Operations

Aiken Co: SC 29802-

Landholding Agency: Energy

Property Number: 41200430034

Status: Excess

Reason: Secured Area

Bldg. 614-002K

Savannah River Operations

Aiken Co: SC 29802-

Landholding Agency: Energy

Property Number: 41200430036

Status: Excess

Reason: Secured Area

Bldg. 614-002L

Savannah River Operations

Aiken Co: SC 29802-

Landholding Agency: Energy

Property Number: 41200430037

Status: Excess

Reason: Secured Area

Bldg. 701-001F

Savannah River Operations

Aiken Co: SC 29802-

Landholding Agency: Energy

Property Number: 41200430038

Status: Excess

Reason: Secured Area

Bldg. 701-002C

Savannah River Operations

Aiken Co: SC 29802-

Landholding Agency: Energy

Property Number: 41200430039

Status: Excess

Reason: Secured Area

Bldg. 716-002A

Savannah River Operations

Aiken Co: SC 29802-

Landholding Agency: Energy

Property Number: 41200430040

Status: Excess

Reason: Secured Area

Bldg. 901-001K

Savannah River Operations

Aiken Co: SC 29802-

Landholding Agency: Energy

Property Number: 41200430041

Status: Excess

Reason: Secured Area

Bldgs. 221-21F, 22F

Savannah River Operations

Aiken Co: SC 29802-

Landholding Agency: Energy

Property Number: 41200430042

Status: Excess

Reason: Secured Area

Bldg. 221-033F

Savannah River Operations

Aiken Co: SC 29802-

Landholding Agency: Energy

Property Number: 41200430043

Status: Excess

Reason: Secured Area

Bldg. 254-007F

Savannah River Operations

Aiken Co: SC 29802-

Landholding Agency: Energy

Property Number: 41200430044

Status: Excess

Reason: Secured Area

Bldg. 281-001F

Savannah River Operations

Aiken Co: SC 29802-

Landholding Agency: Energy

Property Number: 41200430045

Status: Excess

Reason: Secured Area

Bldg. 281-004F

Savannah River Operations

Aiken Co: SC 29802-

Landholding Agency: Energy

Property Number: 41200430046

Status: Excess

Reason: Secured Area

Bldg. 281-006F

Savannah River Operations

Aiken Co: SC 29802-

Landholding Agency: Energy

Property Number: 41200430047

Status: Excess

Reason: Secured Area

Bldg. 305-000A

Savannah River Operations

Aiken Co: SC 29802-

Landholding Agency: Energy

Property Number: 41200430048

Status: Excess

Reason: Secured Area

Bldg. 703-045A

Savannah River Operations

Aiken Co: SC 29802-

Landholding Agency: Energy

Property Number: 41200430050

Status: Excess

Reason: Secured Area

Bldg. 703-071A

Savannah River Operations

Aiken Co: SC 29802-

Landholding Agency: Energy

Property Number: 41200430051

Status: Excess

Reason: Secured Area

Bldg. 716-A

Savannah River Operations

Aiken Co: SC 29802-

Landholding Agency: Energy

Property Number: 41200430055

Status: Excess

Reason: Secured Area

Bldg. 719-000A

Savannah River Operations

Aiken Co: SC 29802-

Landholding Agency: Energy

Property Number: 41200430056

Status: Excess

Reason: Secured Area

Bldg. 754-008A

Savannah River Operations

Aiken Co: SC 29802-

Landholding Agency: Energy

Property Number: 41200430058

Status: Excess

Reason: Secured Area

Bldg. 777-010A

Savannah River Operations

Aiken Co: SC 29802-

Landholding Agency: Energy

Property Number: 41200430061

Status: Excess

Reason: Secured Area

Bldg. 186-R

Savannah River Site

Aiken Co: SC

Landholding Agency: Energy

Property Number: 41200430063

Status: Unutilized

Reason: Secured Area

Bldg. 190-R

Savannah River Site

Aiken Co: SC

Landholding Agency: Energy

Property Number: 41200430064

Status: Unutilized

Reason: Secured Area

Bldg. 230-H

Savannah River Site

Aiken Co: SC

Landholding Agency: Energy

Property Number: 41200430065

Status: Unutilized

Reason: Secured Area

4 Bldgs.

Savannah River Site

#281-2F, 281-5F, 285-F, 285-5F

Aiken Co: SC

Landholding Agency: Energy

Property Number: 41200430066

Status: Unutilized

Reason: Secured Area

Bldgs. 186L, 190L

Savannah River Site

Aiken Co: SC 29802-

Landholding Agency: Energy

Property Number: 41200430069

Status: Unutilized

Reason: Secured Area

Bldg. 701-000M

Savannah River Site

Aiken Co: SC 29802-

Landholding Agency: Energy

Property Number: 41200430084

Status: Unutilized

Reason: Secured Area

Bldg. 701-002A

Savannah River Site

Aiken Co: SC 29802-

Landholding Agency: Energy

Property Number: 41200430085

Status: Unutilized

Reason: Secured Area

Bldg. 701-003A

Savannah River Site

Aiken Co: SC 29802-

Landholding Agency: Energy

Property Number: 41200430086

Status: Unutilized

Reason: Secured Area

Bldg. 151-2R

Savannah River Site

Aiken Co: SC 29802

Landholding Agency: Energy

Property Number: 41200440010

Status: Unutilized

Reason: Secured Area

Bldg. 608-000P

Savannah River Site

Aiken Co: SC 29802-

Landholding Agency: Energy

Property Number: 41200440031

Status: Excess

Reason: Secured Area

Bldg. 690-000N

Savannah River Site

Aiken Co: SC 29802-

Landholding Agency: Energy

Property Number: 41200440032

Status: Underutilized

Reason: Secured Area

Bldg. 763-106N

Savannah River Site

Aiken Co: SC 29802-

Landholding Agency: Energy

Property Number: 41200440033

Status: Underutilized

Reason: Secured Area

Facility 701-5G

Savannah River Site

New Ellenton Co: SC

Landholding Agency: Energy

Property Number: 41200530003

Status: Unutilized

Reason: Extensive deterioration

South Dakota

Mobile Home

Tract L-1295

Oahe Dam

Potter SD 00000-

Landholding Agency: COE

Property Number: 31200030001

Status: Excess

Reason: Extensive deterioration

Tennessee

Bldg. 204

Cordell Hull Lake and Dam Project

Defeated Creek Recreation Area

Carthage Co: Smith TN 37030-

Location: US Highway 85

Landholding Agency: COE

Property Number: 31199011499

Status: Unutilized

Reason: Floodway

Tract 2618 (Portion)

Cordell Hull Lake and Dam Project

Roaring River Recreation Area

Gainesboro Co: Jackson TN 38562-

Location: TN Highway 135

Landholding Agency: COE

Property Number: 31199011503

Status: Underutilized

Reason: Floodway

Water Treatment Plant

Dale Hollow Lake & Dam Project

Obey River Park, State Hwy 42

Livingston Co: Clay TN 38351-

Landholding Agency: COE

Property Number: 31199140011

Status: Excess

Reason: water treatment plant

Water Treatment Plant

Dale Hollow Lake & Dam Project

Lillydale Recreation Area, State Hwy 53

Livingston Co: Clay TN 38351-

Landholding Agency: COE

Property Number: 31199140012

Status: Excess

Reason: water treatment plant

Water Treatment Plant

Dale Hollow Lake & Dam Project

Willow Grove Recreational Area, Hwy No. 53

Livingston Co: Clay TN 38351-

Landholding Agency: COE

Property Number: 31199140013

Status: Excess

Reason: water treatment plant

Comfort Station/Land

Cook Campground

Nashville Co: Davidson TN 37214-

Landholding Agency: COE

Property Number: 31200420024

Status: Unutilized

Reason: Floodway

Tracts 915, 920, 931C-1

Cordell Hull Dam/Reservoir

Cathage Co: Smith TN 37030-

Landholding Agency: COE

Property Number: 31200430016

Status: Unutilized

Reasons: Floodway; landlocked

Residence #5

5050 Dale Hollow Dam Rd.

Celina Co: Clay TN 38551-

Landholding Agency: COE

Property Number: 31200540010

Status: Unutilized

Reason: landlocked

Bldg.

Dale Hollow Lake Dam

Celina Co: Clay TN 38551-

Landholding Agency: COE

Property Number: 31200610013

Status: Unutilized

Reason: Extensive deterioration

Bldg. 3004

Oak Ridge National Lab

Oak Ridge Co: Roane TN 37831-

Landholding Agency: Energy

Property Number: 41199710002

Status: Unutilized

Reasons: Secured Area, Extensive deterioration

Bldgs. 9714-3, 9714-4, 9983-AY

Y-12 Pistol Range

Oak Ridge Co: Anderson TN 37831-

Landholding Agency: Energy

Property Number: 41199720004

Status: Unutilized

Reason: Secured Area

5 Bldgs.

K-724, K-725, K-1031, K-1131, K-1410

East Tennessee Technology Park

Oak Ridge Co: Roane TN 37831-

Landholding Agency: Energy

Property Number: 41199730001

Status: Unutilized

Reason: Extensive deterioration

Bldg. 9418-1

Y-12 Plant

Oak Ridge Co: Anderson TN 37831-

Landholding Agency: Energy

Property Number: 41199810026

Status: Unutilized

Reasons: Secured Area; Extensive deterioration

Bldg. 9825

Y-12 Plant

Oak Ridge Co: Anderson TN 37831-

Landholding Agency: Energy

Property Number: 41199810027

Status: Unutilized

Reason: Secured Area

17 Bldgs.

Oak Ridge Tech Park

Oak Ridge Co: Roane TN 37831-

Location: K-801, A-D, H, K-891, K-892, K1025A-E, K-1064B-E, H, K, L, K1206-E

Landholding Agency: Energy

Property Number: 41200310007

Status: Unutilized

Reasons: Secured Area; Extensive deterioration

Bldg. SC-3

ORISE

Oak Ridge Co: Anderson TN 37831-

Landholding Agency: Energy

Property Number: 41200340001

Status: Unutilized

Reasons: Secured Area; Extensive deterioration

Texas

Comfort Station

Overlook PUA

Powderly Co: Lamar TX 75473-9801

Landholding Agency: COE

Property Number: 31200240018

Status: Excess

Reason: Extensive deterioration

58 Bldgs.

Texoma Lake

Denison TX 75020-6425

Landholding Agency: COE

Property Number: 31200340035

Status: Excess

Reason: Extensive deterioration

Bldg.

West Burns Run Park

Denison Co: Grayson TX 75020-

Landholding Agency: COE

Property Number: 31200530022

Status: Excess

Reason: Extensive deterioration

Zone 5, Bldg. FS-18

Pantex Plant

Amarillo Co: Carson TX 79120-

Landholding Agency: Energy

Property Number: 41200220044

Status: Unutilized

Reasons: Within 2000 ft of flammable or explosive material; Secured Area

Zone 12, Bldg. 12-20

Pantex Plant

Amarillo Co: Carson TX 79120-

Landholding Agency: Energy

Property Number: 41200220053

Status: Unutilized

Reasons: Within 2000 ft of flammable or explosive material; Secured Area;

Bldgs. 12-017E, 12-019E

Pantex Plant

Amarillo Co: Carson TX 79120-

Landholding Agency: Energy

Property Number: 41200320010

Status: Unutilized

Reasons: Within 2000 ft of flammable or explosive material; Secured Area

5 Bldgs.

Pantex Plant

#10-002, 11-009, 12-013, 12-078, 12-R-078

Amarillo Co: Carson TX 79120-

Landholding Agency: Energy

Property Number: 41200410003

Status: Unutilized

Reasons: Within 2000 ft. of flammable or explosive material; Secured Area

Bldg. 15-016

Pantex Plant

Amarillo Co: Carson TX 79120-

Landholding Agency: Energy

Property Number: 41200420017

Status: Unutilized

Reason: Secured Area

Bldg. 4-052P

Pantex Plant

Amarillo Co: Carson TX 79120-

Landholding Agency: Energy

Property Number: 41200420018

Status: Unutilized

Reason: Secured Area

4 Bldgs.

NNSA Pantex Plant

Amarillo Co: Carson TX 79120-

Location: 12-009, 12-009A, 12-R-009A, 12-R-009B

Landholding Agency: Energy

Property Number: 41200540002

Status: Unutilized

Reasons: Within 2000 ft. of flammable or explosive material; Secured Area

Bldg. 12-011A

NNSA Pantex Plant

Amarillo Co: Carson TX 79120-

Landholding Agency: Energy

Property Number: 41200540003

Status: Unutilized

Reasons: Within 2000 ft. of flammable or explosive material; Secured Area

Bldg. 12-097

NNSA Pantex Plant

Amarillo Co: Carson TX 79120-

Landholding Agency: Energy

Property Number: 41200540004

Status: Unutilized

Reasons: Within 2000 ft. of flammable or explosive material; Secured Area

Virginia

PHL-188855, 16498, 16693

Mize Point Campground

Bassett Co: VA 24055-

Landholding Agency: COE

Property Number: 31200510014

Status: Unutilized

Reason: Extensive deterioration

Training Bldg.

USCG Integrated Support Ctr

Portsmouth Co: Norfolk VA 43703-

Landholding Agency: Coast Guard

Property Number: 88200530001

Status: Excess

Reason: Secured Area

Washington

Rec Storage Bldg.

Richland Parks

Richland Co: Benton WA 99352-

Landholding Agency: COE

Property Number: 31200240019

Status: Unutilized

Reason: Extensive deterioration

Railroad Club Bldg.

McNary Lock & Dam Proj

Richland Co: Benton WA 99352-

Landholding Agency: COE

Property Number: 31200410006

Status: Excess

Reason: Within 2000 ft. of flammable or explosive material

Wisconsin

Station Building

Coast Guard Station

Sheboygan Co: WI

Landholding Agency: Coast Guard

Property Number: 88200610001

Status: Underutilized

Reason: Secured Area

Land (by State)

Arizona

58 acres

VA Medical Center

500 Highway 89 North

Prescott Co: Yavapai AZ 86313-

Landholding Agency: VA

Property Number: 97190630001

Status: Unutilized

Reason: Floodway

20 acres

VA Medical Center

500 Highway 89 North

Prescott Co: Yavapai AZ 86313-

Landholding Agency: VA

Property Number: 97190630002

Status: Underutilized

Reason: Floodway

Florida

Wildlife Sanctuary, VAMC

10,000 Bay Pines Blvd.

Bay Pines Co: Pinellas FL 33504-

Landholding Agency: VA

Property Number: 97199230004

Status: Underutilized

Reason: Inaccessible

Kentucky

Tract 4626

Barkley, Lake, Kentucky and Tennessee

Donaldson Creek Launching Area

Cadiz Co: Trigg KY 42211-

Location: 14 miles from U.S. Highway 68

Landholding Agency: COE

Property Number: 31199010030

Status: Underutilized

Reason: Floodway

Tract AA-2747

Wolf Creek Dam and Lake Cumberland

US Hwy. 27 to Blue John Road

Burnside Co: Pulaski KY 42519-

Landholding Agency: COE

Property Number: 31199010038

Status: Underutilized

Reason: Floodway

Tract AA-2726

Wolf Creek Dam and Lake Cumberland

KY Hwy. 80 to Route 769

Burnside Co: Pulaski KY 42519-

Landholding Agency: COE

Property Number: 31199010039

Status: Underutilized

Reason: Floodway

Tract 1358

Barkley Lake, Kentucky and Tennessee

Eddyville Recreation Area

Eddyville Co: Lyon KY 42038-

Location: US Highway 62 to State highway 93.

Landholding Agency: COE

Property Number: 31199010043

Status: Excess

Reason: Floodway

Red River Lake Project

Stanton Co: Powell KY 40380-

Location: Exit Mr. Parkway at the Stanton and Slade Interchange, then take SR Hand 15 north to SR 613

Landholding Agency: COE

Property Number: 31199011684

Status: Unutilized

Reason: Floodway

Barren River Lock & Dam No. 1

Richardsville Co: Warren KY 42270-

Landholding Agency: COE

Property Number: 31199120008

Status: Unutilized

Reason: Floodway

Green River Lock & Dam No. 3

Rochester Co: Butler KY 42273-

Location: Off State Hwy. 369, which runs off of Western Ky. Parkway

Landholding Agency: COE

Property Number: 31199120009

Status: Unutilized

Reason: Floodway

Green River Lock & Dam No. 4

Woodbury Co: Butler KY 42288-

Location: Off State Hwy 403, which is off State Hwy 231

Landholding Agency: COE

Property Number: 31199120014

Status: Underutilized

Reason: Floodway

Green River Lock & Dam No. 5

Readville Co: Butler KY 42275-

Location: Off State Highway 185

Landholding Agency: COE

Property Number: 31199120015

Status: Unutilized

Reason: Floodway

Green River Lock & Dam No. 6

Brownsville Co: Edmonson KY 42210-

Location: Off State Highway 259

Landholding Agency: COE

Property Number: 31199120016

Status: Underutilized

Reason: Floodway

Vacant land west of locksite

Greenup Locks and Dam

5121 New Dam Road

Rural Co: Greenup KY 41144-

Landholding Agency: COE

Property Number: 31199120017

Status: Unutilized

Reason: Floodway

Maryland

Tract 131R

Youghiogheny River Lake, Rt. 2, Box 100

Friendsville Co: Garrett MD

Landholding Agency: COE

Property Number: 31199240007

Status: Underutilized

Reason: Floodway

Minnesota

3.85 acres (Area #2)

VA Medical Center

4801 8th Street

St. Cloud Co: Stearns MN 56303-

Landholding Agency: VA

Property Number: 97199740004

Status: Unutilized

Reason: landlocked

7.48 acres (Area #1)

VA Medical Center

4801 8th Street

St. Cloud Co: Stearns MN 56303-

Landholding Agency: VA

Property Number: 97199740005

Status: Underutilized

Reason: Secured Area

Mississippi

Parcel 1

Grenada Lake

Section 20

Grenada Co: Grenada MS 38901-0903

Landholding Agency: COE

Property Number: 31199011018

Status: Underutilized

Reason: Within airport runway clear zone

Missouri

Ditch 19, Item 2, Tract No. 230

St. Francis Basin Project

2½ miles west of Malden Co: Dunklin MO

Landholding Agency: COE

Property Number: 31199130001

Status: Unutilized

Reason: Floodway

Montana

Sewage Lagoons/40 acres

VA Center

Ft. Harrison MT 59639-

Landholding Agency: VA

Property Number: 97200340007

Status: Excess

Reason: Floodway

New York

Tract 1

VA Medical Center

Bath Co: Steuben NY 14810-

Location: Exit 38 off New York State Route 17.

Landholding Agency: VA

Property Number: 97199010011

Status: Unutilized

Reason: Secured Area

Tract 2

VA Medical Center

Bath Co: Steuben NY 14810-

Location: Exit 38 off New York State Route 17.

Landholding Agency: VA

Property Number: 97199010012

Status: Underutilized

Reason: Secured Area

Tract 3

VA Medical Center

Bath Co: Steuben NY 14810-

Location: Exit 38 off New York State Route 17.

Landholding Agency: VA

Property Number: 97199010013

Status: Underutilized

Reason: Secured Area

Tract 4

VA Medical Center

Bath Co: Steuben NY 14810-

Location: Exit 38 off New York State Route 17.

Landholding Agency: VA

Property Number: 97199010014

Status: Unutilized

Reason: Secured Area

Ohio

Mosquito Creek Lake

Everett Hull Road Boat Launch

Cortland Co: Trumbull OH 44410-9321

Landholding Agency: COE

Property Number: 31199440007

Status: Underutilized

Reason: Floodway

Mosquito Creek Lake

Housel—Craft Rd., Boat Launch

Cortland Co: Trumbull OH 44410-9321

Landholding Agency: COE

Property Number: 31199440008

Status: Underutilized

Reason: Floodway

36 Site Campground

German Church Campground

Berlin Center Co: Portage OH 44401-9707

Landholding Agency: COE

Property Number: 31199810001

Status: Unutilized

Reason: Floodway

Pennsylvania

Lock and Dam #7

Monongahela River

Greensboro Co: Greene PA

Location: Left hand side of entrance roadway to project

Landholding Agency: COE

Property Number: 31199011564

Status: Unutilized

Reason: Floodway

Mercer Recreation Area

Shenango Lake

Transfer Co: Mercer PA 16154-

Landholding Agency: COE

Property Number: 31199810002

Status: Unutilized

Reason: Floodway

Tract No. B-212C

Upstream from Gen. Jadwin Dam & Reservoir

Honesdale Co: Wayne PA 18431-

Landholding Agency: COE

Property Number: 31200020005

Status: Unutilized

Reason: Floodway

Tennessee

Brooks Bend

Cordell Hull Dam and Reservoir

Highway 85 to Brooks Bend Road

Gainesboro Co: Jackson TN 38562-

Location: Tracts 800, 802-806, 835-837, 900-902, 1000-1003, 1025

Landholding Agency: COE

Property Number: 21199040413

Status: Underutilized

Reason: Floodway

Cheatham Lock and Dam

Highway 12

Ashland City Co: Cheatham TN 37015-

Location: Tracts E-513, E-512-1 and E-512-2

Landholding Agency: COE

Property Number: 21199040415

Status: Underutilized

Reason: Floodway

Tract 2321

J. Percy Priest Dam and Reservoir

Murfreesboro Co: Rutherford TN 37130-

Location: South of Old Jefferson Pike

Landholding Agency: COE

Property Number: 31199010935

Status: Excess

Reason: Landlocked

Tract 6737

Blue Creek Recreation Area

Barkley Lake, Kentucky and Tennessee

Dover Co: Stewart TN 37058-

Location: U.S. Highway 79/TN Highway 761

Landholding Agency: COE

Property Number: 31199011478

Status: Underutilized

Reason: Floodway

Tracts 3102, 3105, and 3106

Brimstone Launching Area

Cordell Hull Lake and Dam Project

Gainesboro Co: Jackson TN 38562-

Location: Big Bottom Road

Landholding Agency: COE

Property Number: 31199011479

Status: Excess

Reason: Floodway

Tract 3507

Proctor Site

Cordell Hull Lake and Dam Project

Celina Co: Clay TN 38551-

Location: TN Highway 52

Landholding Agency: COE

Property Number: 31199011480

Status: Unutilized

Reason: Floodway

Tract 3721

Obey

Cordell Hull Lake and Dam Project

Celina Co: Clay TN 38551-

Location: TN Highway 53

Landholding Agency: COE

Property Number: 31199011481

Status: Unutilized

Reason: Floodway

Tracts 608, 609, 611 and 612

Sullivan Bend Launching Area

Cordell Hull Lake and Dam Project

Carthage Co: Smith TN 37030-

Location: Sullivan Bend Road

Landholding Agency: COE

Property Number: 31199011482

Status: Underutilized

Reason: Floodway

Tracts 1710, 1716 and 1703

Flynns Lick Launching Ramp

Cordell Hull Lake and Dam Project

Gainesboro Co: Jackson TN 38562-

Location: Whites Bend Road

Landholding Agency: COE

Property Number: 31199011484

Status: Underutilized

Reason: Floodway

Tract 1810

Wartrace Creek Launching Ramp

Cordell Hull Lake and Dam Project

Gainesboro Co: Jackson TN 38551-

Location: TN Highway 85

Landholding Agency: COE

Property Number: 31199011485

Status: Underutilized

Reason: Floodway

Tract 2524

Jennings Creek

Cordell Hull Lake and Dam Project

Gainesboro Co: Jackson TN 38562-

Location: TN Highway 85

Landholding Agency: COE

Property Number: 31199011486

Status: Unutilized

Reason: Floodway

Tracts 2905 and 2907

Webster

Cordell Hull Lake and Dam Project

Gainesboro Co: Jackson TN 38551-

Location: Big Bottom Road

Landholding Agency: COE

Property Number: 31199011487

Status: Unutilized

Reason: Floodway

Tracts 2200 and 2201

Gainesboro Airport

Cordell Hull Lake and Dam Project

Gainesboro Co: Jackson TN 38562-

Location: Big Bottom Road

Landholding Agency: COE

Property Number: 31199011488

Status: Underutilized

Reasons: Within airport runway clear zone;

Floodway

Tracts 710C and 712C

Sullivan Island

Cordell Hull Lake and Dam Project

Carthage Co: Smith TN 37030-

Location: Sullivan Bend Road

Landholding Agency: COE

Property Number: 31199011489

Status: Unutilized

Reason: Floodway

Tract 2403, Hensley Creek

Cordell Hull Lake and Dam Project

Gainesboro Co: Jackson TN 38562-

Location: TN Highway 85

Landholding Agency: COE

Property Number: 31199011490

Status: Unutilized

Reason: Floodway

Tracts 2117C, 2118 and 2120

Cordell Hull Lake and Dam Project

Trace Creek

Gainesboro Co: Jackson TN 38562-

Location: Brooks Ferry Road

Landholding Agency: COE

Property Number: 31199011491

Status: Unutilized

Reason: Floodway

Tracts 424, 425 and 426

Cordell Hull Lake and Dam Project

Stone Bridge

Carthage Co: Smith TN 37030-

Location: Sullivan Bend Road

Landholding Agency: COE

Property Number: 31199011492

Status: Unutilized

Reason: Floodway

Tract 517

J. Percy Priest Dam and Reservoir

Suggs Creek Embayment

Nashville Co: Davidson TN 37214-

Location: Interstate 40 to S. Mount Juliet Road

Landholding Agency: COE

Property Number: 31199011493

Status: Underutilized

Reason: Floodway

Tract 1811

West Fork Launching Area

Smyrna Co: Rutherford TN 37167-

Location: Florence Road near Enon Springs Road

Landholding Agency: COE

Property Number: 31199011494

Status: Underutilized

Reason: Floodway

Tract 1504

J. Perry Priest Dam and Reservoir

Lamon Hill Recreation Area

Smyrna Co: Rutherford TN 37167-

Location: Lamon Road

Landholding Agency: COE

Property Number: 31199011495

Status: Underutilized

Reason: Floodway

Tract 1500

J. Perry Priest Dam and Reservoir

Pools Knob Recreation

Smyrna Co: Rutherford TN 37167-

Location: Jones Mill Road

Landholding Agency: COE

Property Number: 31199011496

Status: Underutilized

Reason: Floodway

Tracts 245, 257, and 256

J. Perry Priest Dam and Reservoir

Cook Recreation Area

Nashville Co: Davidson TN 37214-

Location: 2.2 miles south of Interstate 40 near Saunders Ferry Pike

Landholding Agency: COE

Property Number: 31199011497

Status: Underutilized

Reason: Floodway

Tracts 107, 109 and 110

Cordell Hull Lake and Dam Project

Two Prong

Carthage Co: Smith TN 37030-

Location: US Highway 85

Landholding Agency: COE

Property Number: 31199011498

Status: Unutilized

Reason: Floodway

Tracts 2919 and 2929

Cordell Hull Lake and Dam Project

Sugar Creek

Gainesboro Co: Jackson TN 38562-

Location: Sugar Creek Road

Landholding Agency: COE

Property Number: 31199011500

Status: Unutilized

Reason: Floodway

Tracts 1218 and 1204

Cordell Hull Lake and Dam Project

Granville—Alvin Yourk Road

Granville Co: Jackson TN 38564-

Landholding Agency: COE

Property Number: 31199011501

Status: Unutilized

Reason: Floodway

Tract 2100

Cordell Hull Lake and Dam Project

Galbreaths Branch

Gainesboro Co: Jackson TN 38562-

Location: TN Highway 53

Landholding Agency: COE

Property Number: 31199011502

Status: Unutilized

Reason: Floodway

Tract 104 et al.

Cordell Hull Lake and Dam Project

Horshoe Bend Launching Area

Carthage Co: Smith TN 37030-

Location: Highway 70 N

Landholding Agency: COE

Property Number: 31199011504

Status: Underutilized

Reason: Floodway

Tracts 510, 511, 513 and 514

J. Percy Priest Dam and Reservoir Project

Lebanon Co: Wilson TN 37087-

Location:

Vivrett Creek Launching Area, Alvin Sperry Road

Landholding Agency: COE

Property Number: 31199120007

Status: Underutilized

Reason: Floodway

Tract A-142, Old Hickory Beach

Old Hickory Blvd.

Old Hickory Co: Davidson TN 37138-

Landholding Agency: COE

Property Number: 31199130008

Status: Underutilized

Reason: Floodway

Tract D, 7 acres

Cheatham Lock & Dam

Nashville Co: Davidson TN 37207-

Landholding Agency: COE

Property Number: 31200020006

Status: Underutilized

Reason: Floodway

Tract F-608

Cheatham Lock & Dam

Ashland Co: Cheatham TN 37015-

Landholding Agency: COE

Property Number: 31200420021

Status: Unutilized

Reason: Floodway

Tracts G702-G706

Cheatham Lock & Dam

Ashland Co: Cheatham TN 37015-

Landholding Agency: COE

Property Number: 31200420022

Status: Unutilized

Reason: Floodway

6 Tracts

Shutes Branch Campground

Lakewood Co: Wilson TN -

Landholding Agency: COE

Property Number: 31200420023

Status: Unutilized

Reason: Floodway

Texas

Tracts 104, 105-1, 105-2 & 118

Joe Pool Lake

Co: Dallas TX

Landholding Agency: COE

Property Number: 31199010397

Status: Underutilized

Reason: Floodway

Part of Tract 201-3

Joe Pool Lake

Co: Dallas TX

Landholding Agency: COE

Property Number: 31199010398

Status: Underutilized

Reason: Floodway

Part of Tract 323

Joe Pool Lake

Co: Dallas TX

Landholding Agency: COE

Property Number: 31199010399

Status: Underutilized

Reason: Floodway

Tract 702-3

Granger Lake

Route 1, Box 172

Granger Co: Williamson TX 76530-9801

Landholding Agency: COE

Property Number: 31199010401

Status: Unutilized

Reason: Floodway

Tract 706

Granger Lake

Route 1, Box 172

Granger Co: Williamson TX 76530-9801

Landholding Agency: COE

Property Number: 31199010402

Status: Unutilized

Reason: Floodway

Washington

2.8 acres

Tract P-1003

Kennewick Co: Benton WA 99336-

Landholding Agency: COE

Property Number: 31200240020

Status: Excess

Reason: Within 2000 ft. of flammable or explosive material

West Virginia

Morgantown Lock and Dam

Box 3 RD # 2

Morgantown Co: Monongahelia WV 26505-

Landholding Agency: COE

Property Number: 31199011530

Status: Unutilized

Reason: Floodway

London Lock and Dam

Route 60 East

Rural Co: Kanawha WV 25126-

Location: 20 miles east of Charleston, W. Virginia

Landholding Agency: COE

Property Number: 31199011690

Status: Unutilized

Reason: .03 acres; very narrow strip of land

Portion of Tract #101

Buckeye Creek

Sutton Co: Braxton WV 26601-

Landholding Agency: COE

Property Number: 31199810006

Status: Excess

Reason: inaccessible

[FR Doc. 06-1870 Filed 3-2-06; 8:45 am]

BILLING CODE 4210-67-P